DEPARTMENT OF HOMELAND SECURITY

Coast Guard

46 CFR Parts 1, 2, 5, 6, 7, 8, 10, 11, 12, 15, 16, 25, 26, 27, 28, 30, 31, 32, 34, 35, 39, 44, 46, 50, 52, 53, 54, 56, 57, 58, 59, 61, 62, 63, 67, 68, 69, 70, 71, 76, 77, 78, 90, 91, 92, 95, 96, 97, 98, 105, 107, 108, 109, 110, 111, 114, 116, 125, 126, 127, 128, 130, 131, 133, 134, 147, 148, 150, 151, 153, 154, 159, 160, 161, 162, 164, 167, 169, 170, 172, 174, 175, 177, 188, 189, 193, 194, 195, 197, 199, and 401

49 CFR Parts 450, 451, 452, and 453

[Docket No. USCG-2009-0702]

RIN 1625-ZA24

Shipping; Transportation; Technical, Organizational, and Conforming Amendments

AGENCY: Coast Guard, DHS.

ACTION: Final rule.

SUMMARY: This rule makes non-substantive changes throughout Titles 46 and 49 of the Code of Federal Regulations. The purpose of this rule is to make conforming amendments and technical corrections to Coast Guard regulations. This rule will have no substantive effect on the regulated public. These changes are provided to coincide with the annual recodification of Titles 46 and 49 on October 1.

DATES: This final rule is effective September 25, 2009.

ADDRESSES: Comments and material received from the public, as well as documents mentioned in this preamble as being available in the docket, are part of docket USCG-2009-0702 and are available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet at http://www.regulations.gov.

FOR FURTHER INFORMATION CONTACT: If you have questions on this rule, call or e-mail Lieutenant Commander Reed Kohberger, CG-5232, Coast Guard, telephone 202-372-1471, e-mail Reed.H.Kohberger@uscg.mil. If you have questions on viewing the docket, call Renee V. Wright, Program Manager, Docket Operations, telephone 202-366-9826.

SUPPLEMENTARY INFORMATION:

Table of Contents for Preamble

I. Regulatory History

II. Background

III. Discussion of Rule

IV. Regulatory Analyses

A. Regulatory Planning and Review

B. Small Entities

C. Collection of Information

D. Federalism

E. Unfunded Mandates Reform Act

F. Taking of Private Property

G. Civil Justice Reform

H. Protection of Children

I. Indian Tribal Governments

J. Energy Effects

K. Technical Standards

L. Environment

I. Regulatory History

We did not publish a notice of proposed rulemaking (NPRM) for this regulation. Under both 5 U.S.C. 553(b)(A) and (b)(B), the Coast Guard finds this rule is exempt from notice and comment rulemaking requirements because these changes involve agency organization and practices. In addition, good cause exists for not publishing an NPRM for all revisions in the rule because they are all non-substantive changes. This rule consists only of corrections and editorial, organizational, and conforming amendments. These changes will have no substantive effect on the public; therefore, it is unnecessary to publish an NPRM. Under 5 U.S.C. 553(d)(3), the Coast Guard finds that, for the same reasons, good cause exists for making this rule effective upon publication in the Federal Register.

II. Background

Each year the printed editions of Titles 46 and 49 of the Code of Federal Regulations are recodified on October 1. This rule, which becomes effective September 25, 2009, makes technical and editorial corrections throughout Titles 46 and 49. This rule does not create any substantive requirements.

III. Discussion of Rule

This rule updates various addresses for Coast Guard offices throughout Titles 46 and 49 of the Code of Federal Regulations in order to conform to new mailing addresses and mailing address formats that came into use June 15, 2009. This rule also updates internal Coast Guard office designators throughout Titles 46 and 49.

This rule amends incorporation by reference provisions at 46 CFR 15.105, 30.01-3, 34.01-15, 92.01-2, 95.01-2, 105.01-3, and 193.01-3 to conform to the format specified by the Office of the Federal Register.

Additional amendments to 46 CFR parts 1, 2, 7, 54, 67, 68, 150, 170, and 172 are as follows:

46 CFR 1.01-10. This rule updates § 1.01-10 to reflect changes to the organizational structure of the Coast Guard in recent years in relation to the marine safety functions governed by Title 46.

46 CFR 2.01-30. The Assistant Commandant for Marine Safety, Security, and Stewardship has delegated to the Coast Guard Officer in Charge, Marine Inspection, the authority to re-delegate to each Marine Safety Unit Commanding Officer under his or her command the authority to sign documents issued under 46 CFR Subpart 2.01. This re-delegation is in addition to the authority to re-delegate signature authority to one individual on his or her staff. The Coast Guard is updating § 2.01-30 to reflect this change.

46 CFR 7.55. Certain paragraphs of § 7.55 describe boundary lines marked by buoys. Although the boundary lines remain unchanged, the buoys have been moved for navigation purposes and no longer mark the boundary lines. To avoid confusion, the Coast Guard is removing parenthetical references to the buoys in these paragraphs.

46 CFR 54.15-25. The formula at § 54.15-25(c) was improperly printed in a technical amendment published on September 21, 2007 (72 FR 53965). In the erroneous version, the square root symbol does not extend over the fraction ZT/M. The Coast Guard is reinstating the correct formula, formatted so that the square root symbol extends over the fraction.

46 CFR Parts 67 and 68. The Coast Guard is updating Parts 67 and 68 to correct an inadvertent change introduced by a technical correction made in the Coast Guard Authorization Act of 1989 (Pub. L. 101-225). This error was remedied by Congress in the Coast Guard Authorization Act of 1996 (Pub. L. 104-324, sec. 1115(a)), which repealed what was then section 12107 of Title 46, United States Code. Specifically, in an associated House Report (104-854), Congress stated that the 1989 change “unintentionally added all of the requirements of the U.S. coastwise trade (Jones Act) to all vessels operating on the Great Lakes, even those only trading between the United States and Canada.” Therefore, in order to make the regulations consistent with the statutory intent, the Coast Guard will remove all references to the need for an endorsement on the Great Lakes.

46 CFR 150. In Table I to Part 150, Benzene is assigned to cargo group 32, footnote 2. Footnote 2 directs the reader to Appendix I to Part 150-Exceptions to the Chart. However, Appendix I contains no exceptions for Benzene. Therefore, the Coast Guard is deleting the reference to footnote 2.

In the same Table I, Fluorosilicic acid is assigned to Group 1. In Table II to Part 150, Fluorosilicic acid appears in the lists for both Group 0 and Group 1. The appearance in Group 0 is an erroneous duplication. Therefore, the Coast Guard is deleting Fluorosilicic acid from the list for Group 0 in Table II to Part 150.

46 CFR 170.160 and 172.080. In a 1989 final rule, the Coast Guard removed 46 CFR Table 151.01-10(b) and replaced references to it in Part 151 with references to 46 CFR Table 151.05 (54 FR 40029). However, certain references outside Part 151 were not changed. Sections 170.160(c)(1) and 172.080 still refer to Table 151.01-10(b), which no longer exists. In accordance with the intent of the 1989 final rule, the Coast Guard is replacing these references with references to Table 151.05.

IV. Regulatory Analyses

We developed this rule after considering numerous statutes and executive orders related to rulemaking. Below, we summarize our analyses based on 13 of these statutes or executive orders.

A. Regulatory Planning and Review

This rule is not a significant regulatory action under section 3(f) of Executive Order 12866, Regulatory Planning and Review, and does not require an assessment of potential costs and benefits under section 6(a)(3) of that Order. The Office of Management and Budget has not reviewed it under that Order. Because this rule involves nonsubstantive changes and internal agency practices and procedures, it will not impose any costs on the public.

B. Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

This rule does not require a general notice of proposed rulemaking and, therefore, is exempt from the requirements of the Regulatory Flexibility Act. However, the Coast Guard certifies under 5 U.S.C. 605(b) that this final rule will not have a significant economic impact on a substantial number of small entities.

C. Collection of Information

This rule calls for no new collection of information under the Paperwork Reduction Act of 1995 (44 U.S.C. 3501-3520).

D. Federalism

A rule has implications for federalism under Executive Order 13132, Federalism, if it has a substantial direct effect on State or local governments and would either preempt State law or impose a substantial direct cost of compliance on them. We have analyzed this rule under that Order and have determined that it does not have implications for federalism.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such expenditure, we do discuss the effects of this rule elsewhere in this preamble.

F. Taking of Private Property

This rule will not effect a taking of private property or otherwise have taking implications under Executive Order 12630, Governmental Actions and Interference with Constitutionally Protected Property Rights.

G. Civil Justice Reform

This rule meets applicable standards in sections 3(a) and 3(b)(2) of Executive Order 12988, Civil Justice Reform, to minimize litigation, eliminate ambiguity, and reduce burden.

H. Protection of Children

We have analyzed this rule under Executive Order 13045, Protection of Children from Environmental Health Risks and Safety Risks. This rule is not an economically significant rule and does not create an environmental risk to health or risk to safety that may disproportionately affect children.

I. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

J. Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

K. Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

L. Environment

We have analyzed this rule under Department of Homeland Security Management Directive 023-01 and Commandant Instruction M16475.lD, which guide the Coast Guard in complying with the National Environmental Policy Act of 1969 (NEPA) (42 U.S.C. 4321-4370f), and have concluded that this action is one of a category of actions which do not individually or cumulatively have a significant effect on the human environment. Therefore, this rule is categorically excluded under section 2.B.2, figure 2-1, paragraphs (34)(a) and (b) of the Instruction. This rule involves editorial, procedural, and internal agency functions. An environmental analysis checklist and a categorical exclusion determination are available in the docket where indicated under the ADDRESSES.

List of Subjects

46 CFR Part 1

Administrative practice and procedure, Organization and functions (Government agencies), Reporting and recordkeeping requirements.

46 CFR Parts 2, 170 and 174

Marine safety, Reporting and recordkeeping requirements, Vessels.

46 CFR Part 5

Administrative practice and procedure, Alcohol abuse, Drug abuse, Investigations, Seamen.

46 CFR Part 6

Navigation (water), Reporting and recordkeeping requirements, Vessels.

46 CFR Part 7

Law enforcement, Vessels.

46 CFR Part 8

Administrative practice and procedure, Organizations and functions (Government agencies), Reporting and recordkeeping requirements, Vessels.

46 CFR Part 10

Penalties, Incorporation by reference, Reporting and recordkeeping requirements, Schools, Seamen.

46 CFR Parts 11 and 12

Penalties, Reporting and recordkeeping requirements, Schools, Seamen.

46 CFR Part 15

Incorporation by reference, Reporting and recordkeeping requirements, Seamen, Vessels.

46 CFR Part 16

Drug testing, Marine safety, Reporting and recordkeeping requirements, Safety, Transportation.

46 CFR Parts 25, 161, and 164

Fire prevention, Marine safety, Reporting and recordkeeping requirements.

46 CFR Part 26

Marine safety, Penalties, Reporting and recordkeeping requirements.

46 CFR Part 27

Fire Prevention, Marine safety, Reporting and recordkeeping requirements, Vessels.

46 CFR Part 28

Alaska, Fire prevention, Fishing vessels, Marine safety, Occupational safety and health, Reporting and recordkeeping requirements, Seamen.

46 CFR Part 30

Cargo vessels, Foreign relations, Hazardous materials transportation, Incorporation by reference, Penalties, Reporting and recordkeeping requirements, Seamen.

46 CFR Parts 31, 91, 126, and 133

Cargo vessels, Marine safety, Reporting and recordkeeping requirements.

46 CFR Part 32

Cargo vessels, Fire prevention, Marine safety, Navigation (water), Occupational safety and health, Reporting and recordkeeping requirements, Seamen.

46 CFR Part 34

Cargo vessels, Fire prevention, Incorporation by reference, Marine safety.

46 CFR Part 35

Cargo vessels, Marine safety, Navigation (water), Occupational safety and health, Reporting and recordkeeping requirements, Seamen.

46 CFR Part 39

Cargo vessels, Fire prevention, Hazardous materials transportation, Marine safety, Occupational safety and health, Reporting and recordkeeping requirements.

46 CFR Parts 44, 50, 52, 53, 54, 56, 57, 58, 59, 61, 62, 63, 67, and 110

Reporting and recordkeeping requirements, Vessels.

46 CFR Part 46

Passenger vessels, Penalties, Reporting and recordkeeping requirements.

46 CFR Part 68

Oil pollution, Vessels.

46 CFR Part 69

Measurement standards, Penalties, Reporting and recordkeeping requirements, Vessels.

46 CFR Parts 70, 71, 114, 175 and 177

Marine safety, Passenger vessels, Reporting and recordkeeping requirements.

46 CFR Part 76

Fire prevention, Marine safety, Passenger vessels.

46 CFR Part 77

Marine safety, Navigation (water), Passenger vessels.

46 CFR Part 78

Marine safety, Navigation (water), Passenger vessels, Penalties, Reporting and recordkeeping requirements.

46 CFR Part 90

Cargo vessels, Marine safety.

46 CFR Part 92

Cargo vessels, Fire prevention, Incorporation by reference, Marine safety, Occupational safety and health, Seamen.

46 CFR Part 95

Cargo vessels, Fire prevention, Incorporation by reference, Marine safety.

46 CFR Part 96

Cargo vessels, Marine safety, Navigation (water).

46 CFR Parts 97 and 130

Cargo vessels, Marine safety, Navigation (water), Reporting and recordkeeping requirements.

46 CFR Parts 98 and 151

Cargo vessels, Hazardous materials transportation, Marine safety, Reporting and recordkeeping requirements, Water pollution control.

46 CFR Part 105

Cargo vessels, Fishing vessels, Hazardous materials transportation, Incorporation by reference, Marine safety, Petroleum, Seamen.

46 CFR Part 107

Marine safety, Oil and gas exploration, Reporting and recordkeeping requirements, Vessels.

46 CFR Part 108

Fire prevention, Marine safety, Occupational safety and health, Oil and gas exploration, Vessels.

46 CFR Part 109

Marine safety, Occupational safety and health, Oil and gas exploration, Reporting and recordkeeping requirements, Vessels.

46 CFR Part 111

Vessels.

46 CFR Part 116

Fire prevention, Marine safety, Passenger vessels, Seamen.

46 CFR Part 125

Administrative practice and procedure, Cargo vessels, Hazardous materials transportation, Marine safety, Seamen.

46 CFR Part 127

Cargo vessels, Fire prevention, Marine safety, Occupational safety and health, Reporting and recordkeeping requirements, Seamen.

46 CFR Part 128

Cargo vessels, Hazardous materials transportation, Marine safety, Reporting and recordkeeping requirements.

46 CFR Part 131

Cargo vessels, Fire prevention, Marine safety, Navigation (water), Occupational safety and health, Reporting and recordkeeping requirements.

46 CFR Part 134

Cargo vessels, Hazardous materials transportation, Marine safety, Occupational safety and health, Reporting and recordkeeping requirements, Seamen.

46 CFR Part 147

Hazardous materials transportation, Labeling, Marine safety, Packaging and containers, Reporting and recordkeeping requirements.

46 CFR Parts 148 and 172

Cargo vessels, Hazardous materials transportation, Marine safety.

46 CFR Part 150

Hazardous materials transportation, Marine safety, Occupational safety and health, Reporting and recordkeeping requirements.

46 CFR Part 153

Administrative practice and procedure, Cargo vessels, Hazardous materials transportation, Marine safety, Reporting and recordkeeping requirements, Water pollution control.

46 CFR Part 154

Cargo vessels, Gases, Hazardous materials transportation, Marine safety, Reporting and recordkeeping requirements.

46 CFR Part 159

Business and industry, Laboratories, Marine safety, Reporting and recordkeeping requirements.

46 CFR Part 160

Marine safety, Reporting and recordkeeping requirements.

46 CFR Part 162

Fire prevention, Marine safety, Oil pollution, Reporting and recordkeeping requirements.

46 CFR Part 167

Fire prevention, Marine safety, Reporting and recordkeeping requirements, Schools, Seamen, Vessels.

46 CFR Part 169

Fire prevention, Marine safety, Reporting and recordkeeping requirements, Schools, Vessels.

46 CFR Part 188

Marine safety, Oceanographic research vessels.

46 CFR Part 189

Marine safety, Oceanographic research vessels, Reporting and recordkeeping requirements.

46 CFR Part 193

Fire prevention, Marine safety, Oceanographic research vessels.

46 CFR Part 194

Explosives, Hazardous materials transportation, Marine safety, Oceanographic research vessels.

46 CFR Part 195

Marine safety, Navigation (water), Oceanographic research vessels.

46 CFR Part 197

Benzene, Diving, Marine safety, Occupational safety and health, Reporting and recordkeeping requirements, Vessels.

46 CFR Part 199

Cargo vessels, Marine safety, Oil and gas exploration, Passenger vessels, Reporting and recordkeeping requirements.

46 CFR Part 401

Administration practice and procedure, Great Lakes, Navigation (water), Penalties, Reporting and recordkeeping requirements, Seamen.

49 CFR Parts 450 and 452

Freight, Packaging and containers, Reporting and recordkeeping requirements, Safety.

49 CFR Part 451

Freight, Packaging and containers, Safety.

49 CFR Part 453

Administrative practice and procedure, Freight, Packaging and containers, Safety.

For the reasons discussed in the preamble, the Coast Guard amends 46 CFR parts 1, 2, 5, 6, 7, 8, 10, 11, 12, 15, 16, 25, 26, 27, 28, 30, 31, 32, 34, 35, 39, 44, 46, 50, 52, 53, 54, 56, 57, 58, 59, 61, 62, 63, 67, 68, 69, 70, 71, 76, 77, 78, 90, 91, 92, 95, 96, 97, 98, 105, 107, 108, 109, 110, 111, 114, 116, 125, 126, 127, 128, 130, 131, 133, 134, 147, 148, 150, 151, 153, 154, 159, 160, 161, 162, 164, 167, 169, 170, 172, 174, 175, 177, 188, 189, 193, 194, 195, 197, 199, and 401, and 49 CFR parts 450, 451, 452, and 453, as follows:

Title 46—Shipping

PART 1—ORGANIZATION, GENERAL COURSE AND METHODS GOVERNING MARINE SAFETY FUNCTIONS

1. The authority citation for Part 1 continues to read as follows:

Authority: 5 U.S.C. 552; 14 U.S.C. 633; 46 U.S.C. 7701; 46 U.S.C. Chapter 93; Pub. L. 107-296, 116 Stat. 2135; Department of Homeland Security Delegation No. 0170.1; § 1.01-35 also issued under the authority of 44 U.S.C. 3507.

2. Revise § 1.01-10 (b)(1) and (2) to read as follows:

§ 1.01-10 Organization.

* * * * *

(b) * * *

(1) The Assistant Commandant for Marine Safety, Security, and Stewardship (CG-5), under the general direction of the Commandant, directs, supervises, and coordinates the activities of: The Assessment, Integration and Risk Management Directorate (CG-51); the Commercial Regulations and Standards Directorate (CG-52), consisting of the Office of Design and Engineering Standards (CG-521), the Office of Operating and Environmental Standards (CG-522), and the Office of Standards Evaluation and Development (CG-523); the Response Policy Directorate (CG-53), consisting of the Office of Law Enforcement (CG-531), the Office of Counterterrorism and Defense Operations (CG-532), the Office of Incident Management and Preparedness (CG-533), the Office of Search and Rescue (CG-534), and the Office of Contingency Exercises (CG-535); and the Prevention Policy Directorate (CG-54), consisting of the Office of Waterways Management (CG-541), the Office of Auxiliary and Boating Safety (CG-542), the Office of Vessel Activities (CG-543), the Office of Port and Facility Activities (CG-544), the Office of Investigations and Analysis (CG-545), and the Office of Quality Assurance and Traveling Inspections (CG-546). The Deputy Commandant for Operations (CG-DCO), under the general direction of the Commandant, directs, supervises, and coordinates the activities of the Operations Resource Management Directorate (CG-DCO-R), consisting of the Office of Workforce Management (CG-DCO-R-1), the Office of Budget Development (CG-DCO-R-2), the Office of Budget Execution (CG-DCO-R-3), and the Office of Information Resources (CG-DCO-R-6). The Port Safety and Security programs administered by the Chief, Office of Vessel Activities (CG-543), and the Marine Environmental Response programs administered by the Chief, Office of Incident Management and Preparedness (CG-533), are guided by regulations contained in 33 CFR chapter I. The Assistant Commandant for Marine Safety, Security, and Stewardship (CG-5) exercises technical control over the Commanding Officer, National Maritime Center (NMC), and, through the District Commander, supervises the administration of the Marine Safety Division of District Offices and Officers in Charge, Marine Inspection.

(i) The Director of Commercial Regulations and Standards (CG-52), under the general direction and supervision of the Assistant Commandant for Marine Safety, Security, and Stewardship (CG-5), establishes federal policies for development of marine safety, security, and environmental protection treaties, laws, and regulations; develops safety, security, and environmental protection standards for the maritime industry; integrates all marine safety, security, and environmental protection regulatory programs; prepares legislation, regulations, and industry guidance for new safety and environmental protection programs; and maintains an active program for development of third party consensus industry standards.

(A) The Chief, Office of Design and Engineering Standards (CG-521), at Headquarters, under the direction of the Assistant Commandant for Marine Safety, Security, and Stewardship (CG-5) and the Director of Commercial Regulations and Standards (CG-52), manages the program for defining the overall regulatory approach for vessels, offshore structures, and other marine systems incorporating safety considerations regarding the role of the human element; develops policies and regulations on load line matters and supervises classification societies authorized to assign load lines on behalf of the Coast Guard; oversees the development and maintenance of programs that incorporate risk-based methods in making safety determinations and policies; and oversees technical research and development for safety and environmental protection associated with marine vessels, structures and facilities.

(B) The Chief, Office of Operating and Environmental Standards (CG-522), at Headquarters, under the direction of the Assistant Commandant for Marine Safety, Security, and Stewardship (CG-5) and the Director of Commercial Regulations and Standards (CG-52), coordinates and integrates program standards for personnel qualification, vessel manning, vessel and facility operations, cargo systems and handling, and environmental protection; develops and maintains standards, regulations, and industry guidance for maritime industry operations to prevent deaths, injuries, property damage, and environmental harm; develops and maintains safety standards and regulations for commercial fishing industry vessels and uninspected commercial vessels; and develops and maintains health and safety standards and regulations for U.S.-inspected vessels.

(C) The Chief, Office of Standards Evaluation and Development (CG-523), at Headquarters, under the Direction of the Assistant Commandant for Marine Safety, Security, and Stewardship (CG-5) and the Director of Commercial Regulations and Standards (CG-52), coordinates the development of new standards, programs, and regulations across all technical and operational areas of marine safety and environmental protection; provides comprehensive analytical support for all standards assessment and development efforts; coordinates development of measures of effectiveness for assessing regulatory programs and consensus standards; and oversees the Coast Guard's rulemaking development program.

(D) The Commanding Officer, Marine Safety Center, under the Direction of the Assistant Commandant for Marine Safety, Security, and Stewardship (CG-5) and the Director of Commercial Regulations and Standards (CG-52), conducts reviews and approvals of plans, calculations, and other materials concerning the design, construction, alterations, and repair of commercial vessels to determine conformance with the marine inspection laws, regulations, and implementing directions, and administers the U.S. Tonnage Measurement program.

(ii) The Director of Prevention Policy (CG-54), under the general direction and supervision of the Assistant Commandant for Marine Safety, Security, and Stewardship (CG-5), acts as Program Manager for the Marine Safety, Security, and Environmental Protection Programs; directs, coordinates, and integrates the Coast Guard's marine safety and environmental protection compliance programs, contingency planning, response operations, and investigations programs; establishes and coordinates field implementation policies and priorities for all marine safety commands and units; serves as the focal point for field support and technical guidance; and provides oversight of marine documentation and marine personnel administration matters.

(A) The Chief, Office of Vessel Activities (CG-543), at Headquarters, under the direction of the Assistant Commandant for Marine Safety, Security, and Stewardship (CG-5) and the Director of Prevention Policy (CG-54), administers and balances all marine safety and environmental protection compliance programs, including direction of Coast Guard activities and oversight of third parties and industry programs; develops, publishes, and maintains program policies for vessel compliance, interprets standards and regulations, and provides field guidance for execution and enforcement; administers the marine inspection program, commercial fishing vessel examination program, and foreign vessel boarding program for the enforcement of commercial vessel material and operational safety standards; and supervises the administration of the manning of U.S. vessels and credentialing of U.S. mariners.

(B) The Chief, Office of Incident Management and Preparedness (CG-533), at Headquarters, under the Direction of the Assistant Commandant for Marine Safety, Security, and Stewardship (CG-5) and the Director of Response Policy (CG-53), coordinates and integrates field planning, preparedness, and response operations for pollution incidents, natural disasters, marine accidents, terrorism, and other threats to public safety, the marine environment, or marine transportation and commerce; develops, publishes, and maintains program policies for preparedness and response, interprets laws and regulations, and provides field guidance for execution; provides guidance regarding emergency authorities of the Captain of the Port (COTP); and administers Office programs for ports and waterway management, bridging compliance, and response efforts with an active presence in the marine environment.

(C) The Chief, Office of Investigations and Analyses (CG-545), at Headquarters, under the direction of the Assistant Commandant for Marine Safety, Security, and Stewardship (CG-5) and the Director of Prevention Policy (CG-54), reviews investigations of marine casualties; manages, develops policy for and evaluates domestic and international programs and processes associated with investigations of marine casualties and injuries; manages analysis of casualties and casualty data, civil penalties and other remedial programs (including proceedings to suspend or revoke Coast Guard credentials held by mariners); and manages marine employer drug and alcohol testing programs.

(D) The Commanding Officer, Coast Guard National Maritime Center (NMC), under technical control of the Assistant Commandant for Marine Safety, Security, and Stewardship (CG-5), administers the mariner credentialing program; evaluates merchant mariners for suitability for service; issues merchant mariner credentials; evaluates and conducts oversight of approved courses; and exercises operational and administrative control over the 17 Regional Examination Centers.

(iii) The Chief, Office of Waterways Management (CG-541), under the general direction and supervision of the Director of Prevention Policy (CG-54), is the principle advisor to the Assistant Commandant for Marine Safety, Security, and Stewardship (CG-5) on waterways management objectives, goals, strategies, and policy. As such, the Chief of the Office of Waterways Management coordinates waterways management issues with other Coast Guard offices; and represents the Coast Guard with other Federal, State, and international governmental organizations on matters concerning waterways management and the Marine Transportation System (MTS). In coordination with the Director of Prevention Policy (CG-54), the Chief of the Office of Waterways Management represents Coast Guard interests on the Committee on the Marine Transportation System and administers the Navigation Safety Advisory Council.

(iv) The Director of Operations Resource Management (CG-DCO-R), under the general direction and supervision of the Deputy Commandant for Operations (CG-DCO), serves as Facility Manager for the marine safety programs; coordinates and integrates financial, informational, and human resources; plans, acquires, develops, and allocates resources for development and execution of the Coast Guard's marine safety programs; provides the focal point for all resource issues in support of the Standards and Operations Directorates; and oversees the development and management of the Coast Guard's direct user fee program.

(2) The Judge Advocate General and Chief Counsel of the Coast Guard (CG-094), under the general direction of and in coordination with the General Counsel, Department of Homeland Security, is the senior legal advisor to the Commandant, Vice Commandant, and senior staff officers. The Judge Advocate General advises on all cases and controversies arising under the various authorities of the Coast Guard involving alleged violations of international, maritime, navigation, and vessel inspection laws, or regulations prescribed there under and published in this chapter or in 33 CFR chapter I, and reviews appeals to the Commandant from actions derived from these authorities. On completion of such a review, the Judge Advocate General prepares a proposed action for the Commandant's consideration or, in appropriate cases, takes final action on behalf of, and as directed by, the Commandant.

§ 1.03-15 [Amended]

3. In § 1.03-15(h)(3), remove the phrase “Second St., SW, Washington, DC 20593” and add, in its place, the phrase “2nd St. SW., Stop 7581, Washington, DC 20593-7581”.

PART 2—VESSEL INSPECTIONS

4. The authority citation for Part 2 continues to read as follows:

Authority: 33 U.S.C. 1903; 43 U.S.C. 1333; 46 U.S.C. 2110, 3103, 3205, 3306, 3307, 3703; 46 U.S.C. Chapter 701; E.O. 12234, 45 FR 58801, 3 CFR, 1980 Comp., p. 277; Department of Homeland Security Delegation No. 0170.1. Subpart 2.45 also issued under the Act Dec. 27, 1950, Ch. 1155, secs. 1, 2, 64 Stat. 120 (see 46 U.S.C. App. Note prec. 1).

PART 2—[AMENDED]

5. In the table below, for each section indicated in the left column, remove the text indicated in the middle column from wherever it appears, and add in its place the text indicated in the right column:

Section | Remove | Add
2.01-45(b) | G-M | CG-54.
2.10-10 | G-MRP | CG-DCO-R-3.
2.10-20(e) | G-MRP | CG-DCO-R-3.
2.10-20(e) | Second Street, S.W., Washington, DC 20593-0001 | 2nd St., SW., Stop 7681, Washington, DC 20593-7681.
2.10-105(b) | G-MRP | CG-DCO-R-3.
2.10-115(b) | G-MRP | CG-DCO-R-3.
2.75-1(d) | G-MSE | CG-521.
2.75-10(b) | (G-MSE), U.S. Coast Guard, Washington, DC 20593-0001 | (CG-521), 2100 2nd St., SW., Stop 7126, Washington, DC 20593-7126.
2.75-15(a) | G-MSE | CG-521.
2.75-25(c)(1) | G-M | CG-52.
2.75-50(c) | Assistant Commandant for Marine Safety, Security and Environmental Protection (G-M) | Director of Commercial Regulations & Standards (CG-52).

6. Revise § 2.01-30 to read as follows:

§ 2.01-30 Delegation of OCMI signature authority.

The Officer in Charge, Marine Inspection, may redelegate signature authority for documents issued under this subpart to: one individual on his or her staff; and each Marine Safety Unit Commanding Officer within his or her Sector.

PART 5—MARINE INVESTIGATION REGULATIONS—PERSONNEL ACTION

7. The authority citation for Part 5 continues to read as follows:

Authority: 46 U.S.C. 2103, 7101, 7301, 7701; Department of Homeland Security Delegation No. 0170.1.

PART 5—[AMENDED]

8. In the table below, for each section indicated in the left column, remove the text indicated in the middle column from wherever it appears, and add in its place the text indicated in the right column:

Section | Remove | Add
5.713(b) | G-L | CG-094.
5.713(b) | SW., Washington, DC 20593 | SW., Stop 7121, Washington, DC 20593-7121.
5.903(b) | SW., Washington, DC 20593 | SW., Stop 7000, Washington, DC 20593-7000.

PART 6—WAIVERS OF NAVIGATION AND VESSEL INSPECTION LAWS AND REGULATIONS

9. The authority citation for Part 6 continues to read as follows:

Authority: Act Dec. 27, 1950, Ch. 1155, secs. 1, 2, 64 Stat. 1120 (see 46 U.S.C. App. note prec. 1); Department of Homeland Security Delegation No. 0170.1.

§ 6.06 [Amended]

10. In the table below, for each section indicated in the left column, remove the text indicated in the middle column from wherever it appears, and add in its place the text indicated in the right column:

Section | Remove | Add
6.06(b) | Washington, DC 20593-0001 | 2100 2nd St. SW., Stop 7581, Washington, DC 20593-7581.
6.06(b), (d) | G-MOC | CG-543.

PART 7—BOUNDARY LINES

11. The authority citation for Part 7 continues to read as follows:

Authority: 14 U.S.C. 633; 33 U.S.C. 151, 1222; Department of Homeland Security Delegation No. 0170.1.

§ 7.55 [Amended]

12. In § 7.55—

a. In paragraph (b), remove the parenthetical phrase “(Oregon Inlet Approach Lighted Whistle Buoy “OI”)”;

b. In paragraph (f), remove the parenthetical phrase “(Beaufort Inlet Lighted Bell Buoy “2BI”)”;

c. In paragraph (g), remove the parenthetical phrase “(Masonboro Inlet Lighted Whistle Buoy “A”)”.

PART 8—VESSEL INSPECTION ALTERNATIVES

13. The authority citation for Part 8 continues to read as follows:

Authority: 46 U.S.C. 3103, 3306, 3316, 3703; Department of Homeland Security Delegation No. 0170.1.

PART 8—[AMENDED]

14. In the table below, for each section indicated in the left column, remove the text indicated in the middle column from wherever it appears, and add in its place the text indicated in the right column:

Section | Remove | Add
8.110(a) | 2100 Second St. SW., Washington, DC 20593-0001 | (CG-521), 2100 2nd St. SW., Stop 7126, Washington, DC 20593-7126.
8.130(a)(5) | G-MOC | CG-543.
8.130(a)(6) | G-MOC | CG-543.
8.130(a)(7) | G-MOC | CG-543.
8.130(a)(11) | G-MOC | CG-543.
8.130(a)(11) | G-MSE | CG-521.
8.130(a)(13) | G-MOC | CG-543.
8.130(a)(19) | G-M | CG-5.
8.130(a)(20) | G-M | CG-52.
8.130(a)(21) | G-M | CG-5.
8.240(a) | G-MSE | CG-521.
8.430 | G-MSE | CG-521.
8.440(d)(3) | G-MOC | CG-543.
8.440(d)(3) | Second St. SW., Washington, DC 20593-0001 | 2nd St. SW., Stop 7581 Washington, DC 20593-7581.

PART 10—MERCHANT MARINER CREDENTIAL

15. The authority citation for Part 10 continues to read as follows:

Authority: 14 U.S.C. 633; 31 U.S.C. 9701; 46 U.S.C. 2101, 2103, 2110; 46 U.S.C. chapter 71; 46 U.S.C. chapter 72; 46 U.S.C. chapter 75; 46 U.S.C. 7701, 8906 and 70105; Executive Order 10173; Department of Homeland Security Delegation No. 0170.1.

§ 10.103 [Amended]

16. In § 10.103, remove the phrase “Second Street SW., Washington, DC 20593-0001” from paragraph (a) and add in its place the phrase “2nd St. SW., Stop 7126, Washington, DC 20593-7126”.

PART 11—REQUIREMENTS FOR OFFICER ENDORSEMENTS

17. The authority citation for Part 11 continues to read as follows:

Authority: 14 U.S.C. 633; 31 U.S.C. 9701; 46 U.S.C. 2101, 2103, and 2110; 46 U.S.C. chapter 71; 46 U.S.C. 7502, 7505, 7701, 8906, and 70105; Executive Order 10173; Department of Homeland Security Delegation No. 0170.1. Section 11.107 is also issued under the authority of 44 U.S.C. 3507.

§ 11.102 [Amended]

18. In § 11.102, remove the phrase “Second Street, SW., Washington, DC 20593-0001” from paragraph (a) and add in its place the phrase “2nd St. SW., Stop 7126, Washington, DC 20593-7126”.

PART 12—REQUIREMENTS FOR RATING ENDORSEMENTS

19. The authority citation for Part 12 continues to read as follows:

Authority: 31 U.S.C. 9701; 46 U.S.C. 2101, 2103, 2110, 7301, 7302, 7503, 7505, 7701, and 70105; Department of Homeland Security Delegation No. 0170.1.

§ 12.01-3 [Amended]

20. In § 12.01-3, remove the phrase “Second Street, SW., Washington, DC 20593-0001” from paragraph (a) and add in its place the phrase “2nd St. SW., Stop 7126, Washington, DC 20593-7126”.

PART 15—MANNING REQUIREMENTS

21. The authority citation for Part 15 continues to read as follows:

Authority: 46 U.S.C. 2101, 2103, 3306, 3703, 8101, 8102, 8104, 8105, 8301, 8304, 8502, 8503, 8701, 8702, 8901, 8902, 8903, 8904, 8905(b), 8906, 9102, and 70105; and Department of Homeland Security Delegation No. 0170.1.

22. Revise § 15.105 to read as follows:

§ 15.105 Incorporation by reference.

(a) Certain material is incorporated by reference into this part with the approval of the Director of the Federal Register under 5 U.S.C. 552(a) and 1 CFR part 51. To enforce any edition other than that specified in this section, the Coast Guard must publish notice of change in the Federal Register and the material must be available to the public. All approved material is available for inspection at the National Archives and Records Administration (NARA). For information on the availability of this material at NARA, call 202-741-6030, or go to http://www.archives.gov/federal_register/code_of_federal_regulations/ibr_locations.html. Also, it is available for inspection at the Coast Guard, Office of Operating and Environmental Standards (CG-522), 2100 2nd St. SW., Stop 7126, Washington, DC 20593-7126, 202-372-1405, and is available from the sources indicated below.

(b) International Maritime Organization (IMO), 4 Albert Embankment, London, SE1 7SR United Kingdom, telephone +44(0)20 7735 7611, http://www.imo.org.

(1) STCW—The International Convention on Standards of Training, Certification and Watchkeeping for Seafarers, 1978, as amended 1995, (STCW Convention), incorporation by reference approved for §§ 15.103; 15.1101; 15.1103; 15.1105; 15.1109.

(2) Seafarer's Training, Certification and Watchkeeping Code, as amended 1995 (STCW Code), incorporation by reference approved for §§ 15.1101; 15.1109.

PART 16—CHEMICAL TESTING

23. The authority citation for Part 16 continues to read as follows:

Authority: 46 U.S.C. 2103, 3306, 7101, 7301, and 7701; Department of Homeland Security Delegation No. 0170.1.

PART 16—[AMENDED]

24. In the table below, for each section indicated in the left column, remove the text indicated in the middle column from wherever it appears, and add in its place the text indicated in the right column:

Section | Remove | Add
16.107(a) | G-MOA | CG-545.
16.107(b) | G-MOA | CG-545.
16.205(b) | G-MOA | CG-545.
16.500(b)(1) | G-MOA | CG-545.
16.500(b)(1) | Second Street, SW, Washington, DC 20593-0001 | 2nd St. SW., Stop 7581, Washington, DC 20593-7581.

PART 25—REQUIREMENTS

25. The authority citation for Part 25 continues to read as follows:

Authority: 33 U.S.C. 1903(b); 46 U.S.C. 3306, 4102, 4302; Department of Homeland Security Delegation No. 0170.1.

PART 25—[AMENDED]

26. In the table below, for each section indicated in the left column, remove the text indicated in the middle column from wherever it appears, and add, in its place, the text indicated in the right column:

Section | Remove | Add
25.01-3(a) | G-MOC | CG-543.
25.01-3(a) | Second Street SW, Washington, DC 20593-0001 | 2nd St. SW., Stop 7581, Washington, DC 20593-7581.
25.30-15(a) | G-MSE | CG-521.
25.45-1(a) | G-MSE | CG-521.
25.45-2(a) | G-MSE | CG-521.

PART 26—OPERATIONS

27. The authority citation for Part 26 continues to read as follows:

Authority: 46 U.S.C. 3306, 4104, 6101, 8105; Pub. L. 103-206, 107 Stat. 2439; E.O. 12234, 45 FR 58801, 3 CFR, 1980 Comp., p. 277; Department of Homeland Security Delegation No. 0170.1.

§ 26.03-8 [Amended]

28. In § 26.03-8, remove the parenthetical phrase “(G-MOC)” from paragraph (a) and add in its place the parenthetical phrase “(CG-543)”.

PART 27—TOWING VESSELS

29. The authority citation for Part 27 continues to read as follows:

Authority: 46 U.S.C. 3306, 4102 (as amended by Pub. L. 104-324, 110 Stat. 3901); Department of Homeland Security Delegation No. 0170.1.

PART 27—[AMENDED]

30. In the table below, for each section indicated in the left column, remove the text indicated in the middle column from wherever it appears, and add in its place the text indicated in the right column:

Section | Remove | Add
27.102(a) | G-MSE | CG-521.
27.102(a) | Second Street SW., Washington, DC 20593-0001 | 2nd St. SW., Stop 7126, Washington, DC 20593-7126.
27.211(c) | G-MSE | CG-521.

PART 28—REQUIREMENTS FOR COMMERCIAL FISHING INDUSTRY VESSELS

31. The authority citation for Part 28 continues to read as follows:

Authority: 46 U.S.C. 3316, 4502, 4505, 4506, 6104, 10603; Department of Homeland Security Delegation No. 0170.1.

PART 28—[AMENDED]

32. In the table below, for each section indicated in the left column, remove the text indicated in the middle column from wherever it appears and add in its place the text indicated in the right column:

Section | Remove | Add
28.40(a) | G-MSE | CG-521.
28.40(a) | Second Street SW., Washington, DC 20593-0001 | 2nd St. SW., Stop 7126, Washington, DC 20593-7126.
28.50 (Coast Guard representative) | Second Street S.W., Washington, DC 20593-0001 | 2nd St. SW., Stop 7581, Washington, DC 20593-7581.

PART 30—GENERAL PROVISIONS

33. The authority citation for Part 30 continues to read as follows:

Authority: 46 U.S.C. 2103, 3306, 3703; Pub. L. 103-206, 107 Stat. 2439; 49 U.S.C. 5103, 5106; Department of Homeland Security Delegation No. 0170.1; Section 30.01-2 also issued under the authority of 44 U.S.C. 3507; Section 30.01-05 also issued under the authority of Sec. 4109, Pub. L. 101-380, 104 Stat. 515.

34. Revise § 30.01-3 to read as follows:

§ 30.01-3 Incorporation by reference.

(a) Certain material is incorporated by reference into this part with the approval of the Director of the Federal Register under 5 U.S.C. 552(a) and 1 CFR part 51. To enforce any edition other than that specified in this section, the Coast Guard must publish notice of change in the Federal Register and the material must be available to the public. All approved material is available for inspection at the National Archives and Records Administration (NARA). For information on the availability of this material at NARA, call 202-741-6030 or go to http://www.archives.gov/federal_register/code_of_federal_regulations/ibr_locations.html. Also, it is available for inspection at the Coast Guard, Office of Design and Engineering Standards (CG-521), 2100 2nd St. SW., Stop 7126, Washington, DC 20593-7126, 202-372-1405, and is available from the sources listed below.

(b) American Society for Testing and Materials (ASTM), 100 Barr Harbor Drive, West Conshohocken, PA 19428-2959, telephone 610-832-9585, http://www.astm.org.

(1) ASTM D 323-94, Standard Test Method for Vapor Pressure of Petroleum Products (Reid Method), incorporation by reference approved for §§ 30.10-22; 30.10-59.

(2) [Reserved]

§ 30.30-5 [Amended]

35. In § 30.30-5(a), remove the words “(G-MOC), U.S. Coast Guard Headquarters, 2100 Second Street, SW., Washington, DC 20593” and add, in their place, the words “(CG-543), 2100 2nd St. SW., Stop 7581, Washington, DC 20593-7581”.

PART 31—INSPECTION AND CERTIFICATION

36. The authority citation for Part 31 continues to read as follows:

Authority: 33 U.S.C. 1321(j); 46 U.S.C. 2103, 3205, 3306, 3307, 3703; 46 U.S.C. Chapter 701; 49 U.S.C. 5103, 5106; E.O. 12234, 45 FR 58801, 3 CFR, 1980 Comp., p. 277; E.O. 12777, 56 FR 54757, 3 CFR, 1991 Comp., p. 351; Department of Homeland Security Delegation No. 0170.1. Section 31.10-21 also issued under the authority of Sect. 4109, Pub. L. 101-380, 104 Stat. 515.

PART 31—[AMENDED]

37. In the table below, for each section indicated in the left column, remove the text indicated in the middle column from wherever it appears, and add in its place the text indicated in the right column:

Section | Remove | Add
31.01-3(b) | G-MSE | CG-521.
31.01-3(b) | Second St., SW., Washington, DC 20593-0001 | 2nd St. SW., Stop 7126, Washington, DC 20593-7126.
31.10-1(b) | G-M | CG-52.
31.10-1(b) | Washington, DC 20593-0001 | 2100 2nd St. SW., Stop 7126, Washington, DC 20593-7126.
31.10-5(a) | 1900 Half Street, SW., Suite 1000, Room 525, Washington, DC 20024 | 2100 2nd St. SW., Stop 7102, Washington, DC 20593-7102.
31.10-21(e)(1) | G-MOC | CG-543.
31.10-21(e)(3) | G-MOC | CG-543.
31.10-21(g) | G-MOC | CG-543.

PART 32—SPECIAL EQUIPMENT, MACHINERY, AND HULL REQUIREMENTS

38. The authority citation for Part 32 continues to read as follows:

Authority: 46 U.S.C. 2103, 3306, 3703, 3719; E.O. 12234, 45 FR 58801, 3 CFR, 1980 Comp., p. 277; Department of Homeland Security Delegation No. 0170.1; Subpart 32.59 also issued under the authority of Sec. 4109, Pub. L. 101-380, 104 Stat. 515.

PART 32—[AMENDED]

39. In the table below, for each section indicated in the left column, remove the text indicated in the middle column from wherever it appears, and add in its place the text indicated in the right column:

Section | Remove | Add
32.01-1(a) | G-MSE | CG-521.
32.01-1(a) | Second Street SW., Washington, DC 20593-0001 | 2nd St. SW., Stop 7126, Washington, DC 20593-7126.
32.15-15(e) | G-PSE-3 | CG-5213.
32.15-15(e) | Second Street, SW., Washington, DC 20593-0001 | 2nd St. SW., Stop 7126, Washington, DC 20593-7126.
32.53-3(b) | G-MSO | CG-522.
32.53-3(b) | Washington, DC 20593-0001 | 2100 2nd St. SW., Stop 7126, Washington, DC 20593-7126.

PART 34—FIREFIGHTING EQUIPMENT

40. The authority citation for Part 34 continues to read as follows:

Authority: 46 U.S.C. 3306, 3703; E.O. 12234, 45 FR 58801, 3 CFR, 1980 Comp., p. 277; Department of Homeland Security Delegation No. 0170.1.

41. Revise § 34.01-15 to read as follows:

§ 34.01-15 Incorporation by reference.

(a) Certain material is incorporated by reference into this part with the approval of the Director of the Federal Register under 5 U.S.C. 552(a) and 1 CFR part 51. To enforce any edition other than that specified in this section, the Coast Guard must publish notice of change in the Federal Register and the material must be available to the public. All approved material is available for inspection at the National Archives and Records Administration (NARA). For information on the availability of this material at NARA, call 202-741-6030 or go to http://www.archives.gov/federal_register/code_of_federal_regulations/ibr_locations.html. Also, it is available for inspection at the Coast Guard, Office of Design and Engineering Standards (CG-521), 2100 2nd St. SW., Stop 7126, Washington, DC 20593-7126, 202-372-1405, and is available from the sources listed below.

(b) American Society for Testing and Materials (ASTM), 100 Barr Harbor Drive, West Conshohocken, PA 19428-2959, telephone 610-832-9585, http://www.astm.org.

(1) ASTM F 1121-87 (Reapproved 1993), Standard Specification for International Shore Connections for Marine Fire Applications, 1987, incorporation by reference approved for § 34.10-15.

(2) [Reserved]

(c) National Fire Protection Association (NFPA), 1 Batterymarch Park, Quincy, MA 02269-9101, telephone 800-344-3555, http://www.nfpa.org.

(1) NFPA 13-1996, Standard for the Installation of Sprinkler Systems, incorporation by reference approved for § 34.30-1.

(2) [Reserved]

PART 35—OPERATIONS

42. The authority citation for Part 35 continues to read as follows:

Authority: 33 U.S.C. 1321(j); 46 U.S.C. 3306, 3703, 6101; 49 U.S.C. 5103, 5106; E.O. 12234, 45 FR 58801, 3 CFR, 1980 Comp., p. 277; E.O. 12777, 56 FR 54757, 3 CFR, 1991 Comp., p. 351; Department of Homeland Security Delegation No. 0170.1.

§ 35.01-3 [Amended]

43. In § 35.01-3, remove the phrase “2100 Second Street SW, Washington, DC 20593-0001” from paragraph (a) and add in its place the phrase “(CG-522), 2100 2nd St. SW., Stop 7126, Washington, DC 20593-7126”.

PART 39—VAPOR CONTROL SYSTEMS

44. The authority citation for Part 39 continues to read as follows:

Authority: 33 U.S.C. 1231; 46 U.S.C. 3306, 3703, 3715(b); 45 FR 58801, 3 CFR, 1980 Comp., p. 277; Department of Homeland Security Delegation No. 0170.1.

PART 39—[AMENDED]

45. In the table below, for each section indicated in the left column, remove the text indicated in the middle column from wherever it appears, and add in its place the text indicated in the right column:

Section | Remove | Add
39.10-1(b) | G-MSO | CG-522.
39.10-3 (Marine Safety Center) | JR10-0525, 2100 2nd Street, SW., Washington, DC 20593 | 2100 2nd St. SW., Stop 7102, Washington, DC 20593-7102.
39.10-5(a) | G-MSO | CG-522.
39.10-5(a) | Second Street, SW., Washington, DC 20593-0001 | 2nd St. SW., Stop 7126, Washington, DC 20593-7126.
39.10-9 | G-MSO | CG-522.
39.20-1(a)(1) | G-MSO | CG-522.
39.20-9(d) | G-MSO | CG-522.
39.40-1(b) | G-MSO | CG-522.
39.40-1(c) | G-MSO | CG-522.
39.40-1(e) | G-MSO | CG-522.

PART 44—SPECIAL SERVICE LIMITED DOMESTIC VOYAGES

46. The authority citation for Part 44 continues to read as follows:

Authority: 46 U.S.C. 5101-5116; Department of Homeland Security Delegation No. 0170.1.

§ 44.320 [Amended]

47. In § 44.320, remove the phrase “JR10-0525, 2100 2nd Street, SW., Washington, DC 20593” from paragraph (a) and add in its place the phrase “2100 2nd St. SW., Stop 7102, Washington, DC 20593-7102”.

PART 46—SUBDIVISION LOAD LINES FOR PASSENGER VESSELS

48. The authority citation for Part 46 continues to read as follows:

Authority: 46 U.S.C. 3306; 46 U.S.C. 5101-5116; E.O. 12234, 3 CFR, 1980 Comp., p. 277; Department of Homeland Security Delegation No. 0170.1.

§ 46.10-10 [Amended]

49. In § 46.10-10, in paragraph (d) remove the phrase “Commandant (G-M) U.S. Coast Guard, Washington, DC 20593-0001,” and add, in its place, the phrase “cognizant Officer in Charge, Marine Inspection, U.S. Coast Guard”.

PART 50—GENERAL PROVISIONS

50. The authority citation for Part 50 continues to read as follows:

Authority: 43 U.S.C. 1333; 46 U.S.C. 3306, 3703; E.O. 12234, 45 FR 58801, 3 CFR, 1980 Comp., p. 277; Department of Homeland Security Delegation No. 0170.1; Section 50.01-20 also issued under the authority of 44 U.S.C. 3507.

§ 50.10-23 [Amended]

51. In § 50.10-23, remove the phrase “JR10-0525, 2100 2nd Street, SW., Washington, DC 20593” and add, in its place, the phrase “2100 2nd St. SW., Stop 7102, Washington, DC 20593-7102”.

PART 52—POWER BOILERS

52. The authority citation for Part 52 continues to read as follows:

Authority: 46 U.S.C. 3306, 3307, 3703; E.O. 12234, 45 FR 58801, 3 CFR, 1980 Comp., p. 277; Department of Homeland Security Delegation No. 0170.1.

§ 52.01-1 [Amended]

53. In § 52.01-1, remove the phrase “Second Street, SW., Washington, DC 20593-0001” from paragraph (a) and add in its place the phrase “2nd St., SW., Stop 7126, Washington, DC 20593-7126”.

PART 53—HEATING BOILERS

54. The authority citation for Part 53 continues to read as follows:

Authority: 46 U.S.C. 3306, 3703; E.O. 12234, 45 FR 58801, 3 CFR, 1980 Comp., p. 277; Department of Homeland Security Delegation No. 0170.1.

§ 53.01-1 [Amended]

55. In § 53.01-1, remove the phrase “Second Street, SW., Washington, DC 20593-0001” from paragraph (a) and, add in its place, the phrase “2nd St. SW., Stop 7126, Washington, DC 20593-7126”.

PART 54—PRESSURE VESSELS

56. The authority citation for Part 54 continues to read as follows:

Authority: 33 U.S.C. 1509; 43 U.S.C. 1333; 46 U.S.C. 3306, 3703; E.O. 12234, 45 FR 58801, 3 CFR, 1980 Comp., p. 277; Department of Homeland Security Delegation No. 0170.1.

PART 54—[AMENDED]

57. In the table below, for each section indicated in the left column, remove the text indicated in the middle column from wherever it appears in the section, and add, in its place, the text indicated in the right column:

Section | Remove | Add
54.01-1(a) | Second Street, SW., Washington, DC 20593-0001 | 2nd St. SW., Stop 7126, Washington, DC 20593-7126.
54.05-30(b) | G-MSE | CG-521.
54.05-30(c) | G-MSE | CG-521.
54.15-25(c-1) | G-MSE | CG-521.

§ 54.15-25 [Amended]

58. In § 54.15-25(c), remove the formula

and add, in its place, the formula

PART 56—PIPING SYSTEMS AND APPURTENANCES

59. The authority citation for Part 56 continues to read as follows:

Authority: 33 U.S.C. 1321(j), 1509; 43 U.S.C. 1333; 46 U.S.C. 3306, 3703; E.O. 12234, 45 FR 58801, 3 CFR, 1980 Comp., p. 277; E.O. 12777, 56 FR 54757, 3 CFR, 1991 Comp., p. 351; Department of Homeland Security Delegation No. 0170.1.

PART 56—[AMENDED]

60. In the table below, for each section indicated in the left column, remove the text indicated in the middle column from wherever it appears in the section, and add, in its place, the text indicated in the right column:

Section | Remove | Add
56.01-2(a) | Second Street, SW., Washington, DC 20593-0001 | 2nd St., SW., Stop 7126, Washington, DC 20593-7126.
56.50-105 (footnote 3 to Table 56.50-105) | G-MSE | CG-521.

PART 57—WELDING AND BRAZING

61. The authority citation for Part 57 continues to read as follows:

Authority: 46 U.S.C. 3306, 3703, E.O. 12234, 45 FR 58801, 3 CFR, 1980 Comp., p. 277; 49 CFR 1.46.

§ 57.02-1 [Amended]

62. In § 57.02-1, in paragraph (a), remove the phrase “(G-MSE), 2100 Second Street SW., Washington, DC 20593-0001” and add, in its place, the phrase “(CG-521), 2100 2nd St. SW., Stop 7126, Washington, DC 20593-7126”.

PART 58—MAIN AND AUXILIARY MACHINERY AND RELATED SYSTEMS

63. The authority citation for Part 58 continues to read as follows:

Authority: 43 U.S.C. 1333; 46 U.S.C. 3306, 3703; E.O. 12234, 45 FR 58801, 3 CFR, 1980 Comp., p. 277; Department of Homeland Security Delegation No. 0170.1.

§ 58.03-1 [Amended]

64. In § 58.03-1, in paragraph (a), remove the phrase “Second Street, SW., Washington, DC 20593-0001” and add, in its place, the phrase “2nd St. SW., Stop 7126, Washington, DC 20593-7126”.

PART 59—REPAIRS TO BOILERS, PRESSURE VESSELS AND APPURTENANCES

65. The authority citation for Part 59 continues to read as follows:

Authority: 46 U.S.C. 3306, 3703; E.O. 12234, 45 FR 58801, 3 CFR, 1980 Comp., p. 227; Department of Homeland Security Delegation No. 0170.1.

§ 59.01-2 [Amended]

66. In § 59.01-2, in paragraph (a), remove the phrase “Second Street, SW., Washington, DC 20593-0001” and add in its place the phrase “2nd St., SW., Stop 7126, Washington, DC 20593-7126”.

PART 61—PERIODIC TESTS AND INSPECTIONS

67. The authority citation for Part 61 continues to read as follows:

Authority: 43 U.S.C. 1333; 46 U.S.C. 2103, 3306, 3307, 3703; E.O. 12234, 45 FR 58801, 3 CFR 1980 Comp., p. 277; Department of Homeland Security Delegation No. 0170.1.

PART 61—[AMENDED]

68. In the table below, for each section indicated in the left column, remove the text indicated in the middle column, and add, in its place, the text indicated in the right column:

Section | Remove | Add
61.03-1(a) | (G-MSE), 2100 Second Street, SW., Washington, DC 20593-0001 | (CG-521), 2100 2nd St., SW., Stop 7126, Washington, DC 20593-7126.
61.20-17(f)(2) | G-MOC | CG-543.
61.20-21 | G-MOC | CG-543.
61.40-10(b) | G-MSE | CG-521.

PART 62—VITAL SYSTEM AUTOMATION

69. The authority citation for Part 62 continues to read as follows:

Authority: 46 U.S.C. 3306, 3703, 8105; E.O. 12234, 45 FR 58801, 3 CFR, 1980 Comp., p. 277; Department of Homeland Security Delegation No. 0170.1.

PART 62—[AMENDED]

70. In the table below, for each section indicated in the left column, remove the text indicated in the middle column and add, in its place, the text indicated in the right column:

Section | Remove | Add
62.05-1(a) | Second Street, SW., Washington, DC 20593-0001 | 2nd St., SW., Stop 7126, Washington, DC 20593-7126.
62.35-40(b) | G-MSE | CG-521.

PART 63—AUTOMATIC AUXILIARY BOILERS

71. The authority citation for Part 63 continues to read as follows:

Authority: 46 U.S.C. 3306, 3703; E.O. 12234, 45 FR 58801, 3 CFR, 1980 Comp., p. 277; Department of Homeland Security Delegation No. 0170.1.

PART 63—[AMENDED]

72. In the table below, for each section indicated in the left column, remove the text indicated in the middle column and add in its place the text indicated in the right column:

Section | Remove | Add
63.05-1(a) | Washington, DC 20593-0001 | Stop 7126, Washington, DC 20593-7126.
63.10-1 | JR10-0525, 2100 2nd Street, SW., Washington, DC 20593 | 2100 2nd St., SW., Stop 7102, Washington, DC 20593-7102.
63.25-9(a) | 1900 Half Street, SW., Suite 1000, Room 525, Washington, DC 20593 | 2100 2nd St., SW., Stop 7102, Washington, DC 20593-7102.

PART 67—DOCUMENTATION OF VESSELS

73. The authority citation for Part 67 continues to read as follows:

Authority: 14 U.S.C. 664; 31 U.S.C. 9701; 42 U.S.C. 9118; 46 U.S.C. 2103, 2107, 2110, 12106, 12120, 12122; 46 U.S.C. app. 841a, 876; Department of Homeland Security Delegation No. 0170.1.

§ 67.7 [Amended]

74. In § 67.7, remove the text “Great Lakes trade,”.

§ 67.15 [Amended]

75. In § 67.15(b), remove the text “Great Lakes,”.

§ 67.17 [Amended]

76. In § 67.17(a), remove the text, “Great Lakes,”.

§ 67.19 [Amended]

77. Amend § 67.19 as follows:

a. Remove the words “or Great Lakes” from the section heading;

b. In paragraph (a), remove the comma immediately after “registry” and add, in its place, the word “or”, and remove the text “, or Great Lakes”;

c. Remove paragraph (b) and redesignate paragraphs (c), (d), (e), and (f) as paragraphs (b), (c), (d), and (e) respectively;

d. In the newly designated paragraph (b), remove the words “or Great Lakes” after “coastwise”, remove the words “paragraph (d) or (e)” and add, in their place, the words “paragraph (c) or (d)”, and remove the words “or Great Lakes” and “or both” before and after the word “endorsement”, respectively;

e. In the newly designated paragraph (c), remove the words “or Great Lakes”, and remove the words “paragraph (c)” and add, in their place, the words “paragraph (b)”;

f. In the newly designated paragraph (d), remove the words “or Great Lakes”, and remove the words “paragraph (c)” and “paragraph (f)” and add, in their places, “paragraph (b)” and “paragraph (e)”, respectively; and

g. In the newly designated paragraph (e), remove the words “paragraph (e)(2)” and add, in its place, the words “paragraph (d)(2)”.

§ 67.21 [Amended]

78. In § 67.21(a), remove the comma following “registry” and add, in its place, the word “or”, and remove the words “, or Great Lakes”.

§§ 67.35 [Amended]

79. In § 67.35(c), remove the words “or Great Lakes” and “or both”.

§ 67.36 [Amended]

80. In § 67.36(c), remove the words “or Great Lake” and “or both”.

§ 67.39 [Amended]

81. In § 67.39(c), remove the words “or Great Lakes” and “or both”.

§ 67.50 [Amended]

82. In § 67.50(a), remove the words “or a Great Lakes”.

§ 67.57 [Amended]

83. Amend § 67.57 as follows:

a. In paragraph (a)(1) remove the words “or Great Lakes”; and

b. In paragraph (b)(1) remove the words “or a Great Lakes”.

§ 67.59 [Amended]

84. In § 67.59(c), remove the words “or Great Lakes” wherever they appear in the paragraph.

§ 67.61 [Amended]

85. In § 67.61, amend the Note paragraph as follows:

a. Add the word “a” before “coastwise”; and

b. Remove the words “or Great Lakes endorsement” and add, in its place, the word “endorsement”.

§ 67.63 [Amended]

86. In § 67.63(a) and (b)(1), remove the words “or Great Lakes”.

§ 67.95 [Amended]

87. In § 67.95 remove the text “, Great Lakes,”.

§ 67.132 [Amended]

88. In § 67.132 (a), remove the text “, Great Lakes trade,”.

§ 67.177 [Amended]

89. In 67.177, in paragraphs (e) and (f), remove the text “, Great Lakes,” wherever it appears.

§ 67.211 [Amended]

90. In § 67.211, in the Note paragraph, remove the words “or Great Lakes”.

§ 67.323 [Amended]

91. In § 67.323, remove the text “, the Great Lakes trade,”.

§ 67.511 [Amended]

92. In § 67.511 (a), remove the words “or Great Lakes”, “or a Great Lakes”, and “or both,”.

§ 67.523 [Amended]

93. In § 67.523, remove the text “, Great Lakes,”.

§ 67.550 [Amended]

94. In § 67.550, in the Fee Table, remove the entire “Great Lakes endorsement” row.

PART 68—DOCUMENTATION OF VESSELS: EXCEPTIONS TO COASTWISE QUALIFICATION

95. The authority citation for Part 68 continues to read as follows:

Authority: 14 U.S.C. 664; 31 U.S.C. 9701; 42 U.S.C. 9118; 46 U.S.C. 2103, 2110; 46 U.S.C. app. 876; Department of Homeland Security Delegation No. 0170.1.

§ 68.33 [Amended]

96. In § 68.33(b), remove the comma before “fishery” and add, in its place, the word “or”, and remove the text “, or Great Lakes”.

PART 69—MEASUREMENT OF VESSELS

97. The authority citation for Part 69 continues to read as follows:

Authority: 46 U.S.C. 2301, 14103; Department of Homeland Security Delegation No. 0170.1.

PART 69—[AMENDED]

98. In the table below, for each section indicated in the left column, remove the text indicated in the middle column and add in its place the text indicated in the right column:

Section | Remove | Add
69.9 (Commandant) | JR10-0525, 2100 2nd Street, SW., Washington, DC 20593 | 2100 2nd St., SW., Stop 7102, Washington, DC 20024-7102.
69.15(a) | JR10-0525, 2100 2nd Street, SW., Washington, DC 20593 | 2100 2nd St., SW., Stop 7102, Washington, DC 20593-7102.

PART 70—GENERAL PROVISIONS

99. The authority citation for Part 70 continues to read as follows:

Authority: 46 U.S.C. 3306, 3703; Pub. L. 103-206, 107 Stat. 2439; 49 U.S.C. 5103, 5106; E.O. 12234, 45 FR 58801, 3 CFR, 1980 Comp., p. 277; Department of Homeland Security Delegation No. 0170.1; Section 70.01-15 also issued under the authority of 44 U.S.C. 3507.

§ 70.35-5 [Amended]

100. In § 70.35-5(a), remove the words “(M), U.S. Coast Guard, Washington, DC 20593-0001” and add, in their place, the words “(CG-52), 2100 2nd St., SW., Stop 7126, Washington, DC 20593-7126”.

PART 71—INSPECTION AND CERTIFICATION

101. The authority citation for Part 71 continues to read as follows:

Authority: 33 U.S.C. 1321(j); 46 U.S.C. 2113, 3205, 3306, 3307; E.O. 12234, 45 FR 58801, 3 CFR, 1980 Comp., p. 277; E.O. 12777, 56 FR 54757, 3 CFR, 1991 Comp., p. 351; Department of Homeland Security Delegation No. 0170.1.

PART 71—[AMENDED]

102. In the table below, for each section indicated in the left column, remove the text indicated in the middle column from wherever it appears, and add, in its place, the text indicated in the right column:

Section | Remove | Add
71.15-5(b) | G-MSE | CG-521.
71.15-5(b) | Second St., SW., Washington, DC 20593-0001 | 2nd St. SW., Stop 7126, Washington, DC 20593-7126.
71.50-3(g) | G-MOC | CG-543.
71.65-15(a)(2) | JR10-0525, 2100 2nd Street, SW., Washington, DC 20593 | 2100 2nd St. SW., Stop 7102, Washington, DC 20593-7102.

PART 76—FIRE PROTECTION EQUIPMENT

103. The authority citation for Part 76 continues to read as follows:

Authority: 46 U.S.C. 3306; E.O. 12234, 45 FR 58801, 3 CFR, 1980 Comp., p. 277; Department of Homeland Security Delegation No. 0170.1.

§ 76.01-2 [Amended]

104. In § 76.01-2, remove the phrase “Second Street SW., Washington, DC 20593-0001” from paragraph (a) and add, in its place, the phrase “2nd St., SW., Stop 7126, Washington, DC 20593-7126”.

PART 77—VESSEL CONTROL AND MISCELLANEOUS SYSTEMS AND EQUIPMENT

105. The authority citation for Part 77 continues to read as follows:

Authority: 46 U.S.C. 3306; E.O. 12234, 45 FR 58801, 3 CFR, 1980 Comp., p. 277; Department of Homeland Security Delegation No. 0170.1.

§ 77.01-3 [Amended]

106. In § 77.01-3, remove the phrase “(G-MSE), 2100 Second Street SW., Washington, DC 20593-0001” from paragraph (a) and add, in its place, the phrase “(CG-521), 2100 2nd St. SW., Stop 7126, Washington, DC 20593-7126”.

PART 78—OPERATIONS

107. The authority citation for Part 78 continues to read as follows:

Authority: 33 U.S.C. 1321(j); 46 U.S.C. 2103, 3306, 6101; 49 U.S.C. 5103, 5106; E.O. 12234, 45 FR 58801, 3 CFR, 1980 Comp., p. 277; E.O. 12777, 56 FR 54757, 3 CFR, 1991 Comp., p. 351; Department of Homeland Security Delegation No. 0170.1.

§ 78.01-2 [Amended]

108. In § 78.01-2, remove the phrase “(G-MSE-4), 2100 Second Street SW., Washington, DC 20593-0001” from paragraph (a) and add, in its place, the phrase “(CG-5214), 2100 2nd St., SW., Stop 7126, Washington, DC 20593-7126”.

PART 90—GENERAL PROVISIONS

109. The authority citation for Part 90 continues to read as follows:

Authority: 46 U.S.C. 3306, 3703; Pub. L. 103-206, 107 Stat. 2439; 49 U.S.C. 5103, 5106; E.O. 12234, 45 FR 58801, 3 CFR, 1980 Comp., p. 277; Department of Homeland Security Delegation No. 0170.1.

§ 90.35-5 [Amended]

110. In § 90.35-5, remove the phrase “(G-M), U.S. Coast Guard, Washington, DC 20593-0001” from paragraph (a) and add, in its place, the phrase “(CG-52), 2100 2nd St. SW., Stop 7126, Washington, DC 20593-7126”.

PART 91—INSPECTION AND CERTIFICATION

111. The authority citation for Part 91 continues to read as follows:

Authority: 33 U.S.C. 1321(j); 46 U.S.C. 3205, 3306, 3307; 46 U.S.C. Chapter 701; Executive Order 12234; 45 FR 58801; 3 CFR, 1980 Comp., p. 277; Executive Order 12777, 56 FR 54757, 3 CFR, 1991 Comp., p. 351; Department of Homeland Security Delegation No. 0170.1.

PART 91—[AMENDED]

112. In the table below, for each section indicated in the left column, remove the text indicated in the middle column from wherever it appears in the section, and add in its place the text indicated in the right column:

Section | Remove | Add
91.15-5(b) | G-MSE | CG-521.
91.15-5(b) | Second St., SW., Washington, DC 20593-0001 | 2nd St., SW., Stop 7126, Washington, DC 20593-7126.
91.40-3 | G-MOC | CG-543.
91.55-15(a)(2) | G-MSE | CG-521.
91.55-15(a)(2) | Washington, DC 20593-0001 | 2100 2nd St., SW., Stop 7126, Washington, DC 20593-7126.
91.55-15(a)(3) | JR10-0525, 2100 2nd Street, SW., Washington, DC 20593 | 2100 2nd St., SW., Stop 7102, Washington, DC 20593-7102.

PART 92—CONSTRUCTION AND ARRANGEMENT

113. The authority citation for part 92 is revised to read as follows:

Authority: 46 U.S.C. 3306; E.0. 12234, 45 FR 58801, 3 CFR, 1980 Comp., p. 277; Department of Homeland Security Delegation No. 0170.1.

114. Revise § 92.01-2 to read as follows:

§ 92.01-2 Incorporation by reference.

(a) Certain material is incorporated by reference into this part with the approval of the Director of the Federal Register under 5 U.S.C. 552(a) and 1 CFR part 51. To enforce any edition other than that specified in this section, the Coast Guard must publish notice of change in the Federal Register and the material must be available to the public. All approved material is available for inspection at the National Archives and Records Administration (NARA). For information on the availability of this material at NARA, call 202-741-6030 or go to http://www.archives.gov/federal_register/code_of_federal_regulations/ibr_locations.html. The material is also available for inspection at the Coast Guard, Office of Design and Engineering Standards, (CG-521), 2100 2nd St., SW., Stop 7126, Washington, DC 20593-7126, and is available from the sources listed below.

(b) International Maritime Organization (IMO), Publications Section, 4 Albert Embankment, London. SE1 7SR, United Kingdom, telephone +44 (0)20 7735 7611, http://www.imo.org.

(1) International Convention for the Safety of Life at Sea (SOLAS), Consolidated Text of the International Convention for the Safety of Life at Sea, 1974, and its Protocol of 1988: Article, Annexes and Certificates. (Incorporating all Amendments in Effect from January 2001) (2001) (“IMO SOLAS 74”), incorporation by reference approved for § 92.07-1.

(2) [Reserved]

PART 95—FIRE PROTECTION EQUIPMENT

115. The authority citation for Part 95 continues to read as follows:

Authority: 46 U.S.C. 3306; E.O. 12234, 45 FR 58801, 3 CFR, 1980 Comp., p. 277; Department of Homeland Security Delegation No. 0170.1.

116. Revise § 95.01-2 to read as follows:

§ 95.01-2 Incorporation by reference.

(a) Certain material is incorporated by reference into this part with the approval of the Director of the Federal Register under 5 U.S.C. 552(a) and 1 CFR part 51. To enforce any edition other than that specified in this section, the Coast Guard must publish notice of change in the Federal Register and the material must be available to the public. All approved material is available for inspection at the National Archives and Records Administration (NARA). For information on the availability of this material at NARA, call 202-741-6030 or go to http://www.archives.gov/federal_register/code_of_federal_regulations/ibr_locations.html. Also, it is available for inspection at the Coast Guard, Office of Design and Engineering Standards (CG-521), 2100 2nd St. SW., Stop 7126, Washington, DC 20593-7126, 202-372-1405, and is available from the sources listed below.

(b) American Society for Testing and Materials (ASTM), 100 Barr Harbor Drive, West Conshohocken, PA 19428-2959, telephone 610-832-9585, http://www.astm.org.

(1) ASTM F 1121-87 (1993), Standard Specification for International Shore Connections for Marine Fire Applications, incorporation by reference approved for § 95.10-10.

(2) [Reserved]

(c) National Fire Protection Association (NFPA), 1 Batterymarch Park, Quincy, MA 02269-9101, telephone 800-344-3555, http://www.nfpa.org.

(1) NFPA 13-1996, Standard for the Installation of Sprinkler Systems, incorporation by reference approved for § 95.30-1.

(2) [Reserved]

PART 96—VESSEL CONTROL AND MISCELLANEOUS SYSTEMS AND EQUIPMENT

117. The authority citation for Part 96 continues to read as follows:

Authority: 46 U.S.C. 3306; E.O. 12234, 45 FR 58801, 3 CFR, 1980 Comp., p. 277; Department of Homeland Security Delegation No. 0170.1.

§ 96.01-3 [Amended]

118. In § 96.01-3, remove the phrase “(G-MSE), 2100 Second Street SW., Washington, DC 20593-0001” from paragraph (a) and add in its place the phrase “(CG-521), 2100 2nd St. SW., Stop 7126, Washington, DC 20593-7126”.

PART 97—OPERATIONS

119. The authority citation for Part 97 continues to read as follows:

Authority: 33 U.S.C. 1321(j); 46 U.S.C. 2103, 3306, 6101; 49 U.S.C. 5103, 5106; E.O. 12234, 45 FR 58801, 3 CFR, 1980 Comp., p. 277; E.O. 12777, 56 FR 54757; 3 CFR, 1991 Comp., p. 351; Department of Homeland Security Delegation No. 0170.1.

§ 97.01-2 [Amended]

120. In § 97.01-2, remove the phrase “(G-MSE-4), 2100 Second Street SW., Washington, DC 20593-0001” from paragraph (a) and add in its place the phrase “(CG-5214), 2100 2nd St. SW., Stop 7126, Washington, DC 20593-7126”.

PART 98—SPECIAL CONSTRUCTION, ARRANGEMENT, AND OTHER PROVISIONS FOR CERTAIN DANGEROUS CARGOES IN BULK

121. The authority citation for Part 98 continues to read as follows:

Authority: 33 U.S.C. 1903; 46 U.S.C. 3306, 3307, 3703; 49 U.S.C. App. 1804; E.O. 12234, 45 FR 58801, 3 CFR, 1980 Comp., p. 277; Department of Homeland Security Delegation No. 0170.1.

PART 98—[AMENDED]

122. In Part 98, remove the parenthetical phrase “(G-MSO)” wherever it appears, and add, in its place, the parenthetical phrase “(CG-522)”.

PART 105—COMMERCIAL FISHING VESSELS DISPENSING PETROLEUM PRODUCTS

123. The authority citation for Part 105 continues to read as follows:

Authority: 33 U.S.C. 1321(j); 46 U.S.C. 3306, 3703, 4502; 49 U.S.C. App. 1804; E.O. 11735, 38 FR 21243, 3 CFR, 1971-1975 Comp., p. 793; Department of Homeland Security Delegation No. 0170.1.

124. Revise § 105.01-3 to read as follows:

§ 105.01-3 Incorporation by reference.

(a) Certain material is incorporated by reference into this part with the approval of the Director of the Federal Register under 5 U.S.C. 552(a) and 1 CFR part 51. To enforce any edition other than that specified in this section, the Coast Guard must publish notice of change in the Federal Register and the material must be available to the public. All approved material is available for inspection at the National Archives and Records Administration (NARA). For information on the availability of this material at NARA, call 202-741-6030 or go to http://www.archives.gov/federal_register/code_of_federal_regulations/ibr_locations.html. Also, it is available for inspection at the Coast Guard, Office of Design and Engineering Standards (CG-521), 2100 2nd St. SW., Stop 7126, Washington, DC 20593-7126, 202-372-1405, and is available from the sources listed below.

(b) American Society for Testing and Materials (ASTM), 100 Barr Harbor Drive, West Conshohocken, PA 19428-2959, telephone 610-832-9585, http://www.astm.org.

(1) ASTM D 323-94, Standard Test Method for Vapor Pressure of Petroleum Products (Reid Method), incorporation by reference approved for § 105.10-15.

(2) [Reserved]

PART 107—INSPECTION AND CERTIFICATION

125. The authority citation for Part 107 continues to read as follows:

Authority: 43 U.S.C. 1333; 46 U.S.C. 3306, 3307; 46 U.S.C. 3316; Department of Homeland Security Delegation No. 0170.1; § 107.05 also issued under the authority of 44 U.S.C. 3507.

PART 107—[AMENDED]

126. In the table below, for each section indicated in the left column, remove the text indicated in the middle column from wherever it appears, and add, in its place, the text indicated in the right column:

Section | Remove | Add
107.117(a) | G-MOC | CG-543.
107.117(a) | Washington, DC 20593-0001 | 2100 2nd St. SW., Stop 7581, Washington, DC 20593-7581.
107.117(b) | G-MSE | CG-521.
107.117(b) | Washington, DC 20593-0001 | 2100 2nd St. SW., Stop 7126, Washington, DC 20593-7126.
107.205(b) | G-MSE | CG-521.
107.205(b) | Second St., SW., Washington, D.C. 20593-0001 | 2nd St. SW., Stop 7126, Washington, DC 20593-7126.
107.265(a)(2) | G-MOC | CG-543.
107.267(a)(2) | G-MOC | CG-543.
107.317(b) | JR10-0525, 2100 2nd Street, SW., Washington, DC 20593 | 2100 2nd St. SW., Stop 7102, Washington, DC 20593-7102.
107.413 | G-MOC | CG-543.

PART 108—DESIGN AND EQUIPMENT

127. The authority citation for Part 108 continues to read as follows:

Authority: 43 U.S.C. 1333; 46 U.S.C. 3102, 3306; Department of Homeland Security Delegation No. 0170.1.

PART 108—[AMENDED]

128. In the table below, for each section indicated in the left column, remove the text indicated in the middle column from wherever it appears in the section, and add in its place the text indicated in the right column:

Section | Remove | Add
108.101(a) | G-MSE | CG-521.
108.101(a) | Second Street SW., Washington, DC 20593-0001 | 2nd St. SW., Stop 7126, Washington, DC 20593-7126.
108.105 | G-MSE | CG-521.
108.105(d) | G-MSC | Marine Safety Center.
108.201(a) | G-MSO | CG-522.

PART 109—OPERATIONS

129. The authority citation for Part 109 continues to read as follows:

Authority: 43 U.S.C. 1333; 46 U.S.C. 3306, 6101, 10104; Department of Homeland Security Delegation No. 0170.1.

PART 109—[AMENDED]

130. In the table below, for each section indicated in the left column, remove the text indicated in the middle column from wherever it appears in the section, and add, in its place, the text indicated in the right column:

Section | Remove | Add
109.105(a) | G-MSE | CG-521.
109.105(a) | Second Street SW., Washington, DC 20593-0001 | 2nd St. SW., Stop 7126, Washington, DC 20593-7126.
Appendix A to Part 109, 4.f | G-MOC | CG-543.

PART 110—GENERAL PROVISIONS

131. The authority citation for Part 110 continues to read as follows:

Authority: 33 U.S.C. 1509; 43 U.S.C 1333; 46 U.S.C. 3306, 3307, 3703; E.O. 12234, 45 FR 58801, 3 CFR, 1980 Comp., p. 277; Department of Homeland Security Delegation No. 0170.1; § 110.01-2 also issued under 44 U.S.C. 3507.

PART 110—[AMENDED]

132. In the table below, for each section indicated in the left column, remove the text indicated in the middle column from wherever it appears in the section, and add, in its place, the text indicated in the right column:

Section | Remove | Add
110.10-1(a) | Second Street, SW., Washington, DC 20593-0001 | 2nd St. SW., Stop 7126, Washington, DC 20593-7126.
110.25-3(a)(1) | JR10-0525, 2100 2nd Street, SW., Washington, DC 20593 | 2100 2nd St. SW., Stop 7102, Washington, DC 20593-7102.

PART 111—ELECTRIC SYSTEMS—GENERAL REQUIREMENTS

133. The authority citation for Part 111 continues to read as follows:

Authority: 46 U.S.C. 3306, 3703; Department of Homeland Security Delegation No. 0170.1.

§ 111.105-32 [Amended]

134. In § 111.105-32, remove the parenthetical phrase “(G-MSE)” from paragraph (c) and add, in its place, the parenthetical phrase “(CG-521)”.

PART 114—GENERAL PROVISIONS

135. The authority citation for Part 114 continues to read as follows:

Authority: 46 U.S.C. 2103, 3306, 3703; Pub. L. 103-206, 107 Stat. 2439; 49 U.S.C. App. 1804; Department of Homeland Security No. 0170.1; § 114.900 also issued under 44 U.S.C. 3507.

§ 114.600 [Amended]

136. In § 114.600, remove the phrase “(G-MSO), 2100 Second Street SW., Washington, DC 20593-0001” from paragraph (a) and add, in its place, the phrase “(CG-522), 2100 2nd St. SW., Stop 7126, Washington, DC 20593-7126”.

PART 116—CONSTRUCTION AND ARRANGEMENT

137. The authority citation for Part 116 continues to read as follows:

Authority: 46 U.S.C. 2103, 3306; E.O. 12234, 45 FR 58801, 3 CFR, 1980 Comp., p. 277, Department of Homeland Security Delegation No. 0170.1.

§ 116.202 [Amended]

138. In § 116.202, remove the phrase “JR10-0525, 2100 2nd Street, SW., Washington, DC 20593” from paragraph (a) and add in its place the phrase “2100 2nd St. SW., Stop 7102, Washington, DC 20593-7102”.

PART 125—GENERAL

139. The authority citation for Part 125 continues to read as follows:

Authority: 46 U.S.C. 2103, 3306, 3307; 49 U.S.C. App. 1804; Department of Homeland Security Delegation No. 0170.1.

PART 125—[AMENDED]

140. In the table below, for each section indicated in the left column, remove the text indicated in the middle column from wherever it appears in the section, and add, in its place, the text indicated in the right column:

Section | Remove | Add
125.110(a) | G-MSO | CG-522.
125.120(a) | G-MSO | CG-522.
125.180(a) | 2100 Second St. SW., Washington, DC 20593-0001 | (CG-522) 2100 2nd St. SW., Stop 7126, Washington, DC 20593-7126.

PART 126—INSPECTION AND CERTIFICATION

141. The authority citation for Part 126 continues to read as follows:

Authority: 33 U.S.C. 1321(j); 46 U.S.C. 3205, 3306, 3307; 46 U.S.C. Chapter 701; Executive Order 111735, 38 FR 21243, 3 CFR 1971-1975 Comp., p. 793; Department of Homeland Security Delegation No. 0170.1.

PART 126—[AMENDED]

142. In the table below, for each section indicated in the left column, remove the text indicated in the middle column from wherever it appears in the section, and add, in its place, the text indicated in the right column:

Section | Remove | Add
126.140 | G-MOC | CG-543.
126.235(b) | G-PSE-2 | CG-5212.
126.235(b) | Second St., SW., Washington, DC 20593-0001 | 2nd St. SW., Stop 7126, Washington, DC 20593-7126.

PART 127—CONSTRUCTION AND ARRANGEMENTS

143. The authority citation for Part 127 continues to read as follows:

Authority: 46 U.S.C. 3306; Department of Homeland Security Delegation No. 0170.1.

PART 127—[AMENDED]

144. In the table below, for each section indicated in the left column, remove the text indicated in the middle column from wherever it appears in the section, and add, in its place, the text indicated in the right column:

Section | Remove | Add
127.120(b) | JR10-0525, 2100 2nd Street, SW., Washington, DC 20593 | 2100 2nd St. SW., Stop 7102, Washington, DC 20593-7102.
127.210(b) | G-MSE | CG-521.

PART 128—MARINE ENGINEERING: EQUIPMENT AND SYSTEMS

145. The authority citation for Part 128 continues to read as follows:

Authority: 46 U.S.C. 3306; Department of Homeland Security Delegation No. 0170.1.

§ 128.310 [Amended]

146. In § 128.310, remove the parenthetical phrase “(G-MSE)” from paragraph (b) and add in its place the parenthetical phrase “(CG-521)”.

PART 130—VESSEL CONTROL, AND MISCELLANEOUS EQUIPMENT AND SYSTEMS

147. The authority citation for Part 130 continues to read as follows:

Authority: 46 U.S.C. 3306; Department of Homeland Security Delegation No. 0170.1.

§ 130.470 [Amended]

148. In § 130.470, remove the parenthetical phrase “(G-MSE)” from paragraph (a) and add in its place the parenthetical phrase “(CG-521)”.

PART 131—OPERATIONS

149. The authority citation for Part 131 continues to read as follows:

Authority: 33 U.S.C. 1321(j); 46 U.S.C. 3306, 6101, 10104; E.O. 12234, 3 CFR, 1980 Comp., p. 277; E.O. 12777, 3 CFR, 1991 Comp., p. 351; Department of Homeland Security Delegation No. 0170.1.

PART 131—[AMENDED]

150. In the table below, for each section indicated in the left column, remove the text indicated in the middle column from wherever it appears in the section, and add, in its place, the text indicated in the right column:

Section | Remove | Add
131.530(b)(1) | G-MOC | CG-543.
131.535(b) | G-MOC | CG-543.
131.580(e) | G-MSE | CG-521.

PART 133—LIFESAVING SYSTEMS

151. The authority citation for Part 133 continues to read as follows:

Authority: 46 U.S.C. 3306, 3307; Department of Homeland Security Delegation No. 0170.1.

PART 133—[AMENDED]

152. Amend Part 133 as follows:

a. Remove the parenthetical phrase “(G-MSE)” wherever it appears and add in its place the parenthetical phrase “(CG-521)”; and

b. Remove the parenthetical phrase “(G-MSC)” from wherever it appears and add in its place the parenthetical phrase “(Marine Safety Center)”.

PART 134—ADDED PROVISIONS FOR LIFTBOATS

153. The authority citation for Part 134 continues to read as follows:

Authority: 46 U.S.C. 3306, 3307; Department of Homeland Security Delegation No. 0170.1.

§ 134.140 [Amended]

154. In § 134.140, remove the parenthetical phrase “(G-MSE)” from paragraphs (a)(3) and (b) and add, in its place, the parenthetical phrase “(CG-521)”.

PART 147—HAZARDOUS SHIPS' STORES

155. The authority citation for Part 147 continues to read as follows:

Authority: 46 U.S.C. 3306; E.O. 12234, 45 FR 58801, 3 CFR, 1980 Comp., p. 277; Department of Homeland Security Delegation No. 0170.1.

PART 147—[AMENDED]

156. Amend Part 147 as follows:

a. Remove the parenthetical phrase “(G-MSE)” from wherever it appears and add in its place the parenthetical phrase “(CG-521)”; and

b. Remove the parenthetical phrase “(G-MSO)” from wherever it appears and add in its place the parenthetical phrase “(CG-522)”.

§ 147.5 [Amended]

157. In 147.5, remove the phrase “Washington, DC 20593-0001” and add in its place the phrase “2100 2nd St. SW., Stop 7126, Washington, DC 20593-7126”.

PART 148—CARRIAGE OF SOLID HAZARDOUS MATERIALS IN BULK

158. The authority citation for Part 148 continues to read as follows:

Authority: 49 U.S.C. 5103; Department of Homeland Security Delegation No. 0170.1.

PART 148—[AMENDED]

159. In Part 148, remove the parenthetical phrase “(G-MSO)” from wherever it appears and add, in its place, the parenthetical phrase “(CG-522)”.

§ 148.01-9 [Amended]

160. In § 148.01-9(a), remove the phrase “Washington, DC 20593” and add in its place the phrase “2100 2nd St. SW., Stop 7126, Washington, DC 20593-7126”.

§ 148.01-11 [Amended]

160A. In § 148.01-11(b)(2), remove the phrase “Washington, DC 20593” and add in its place the phrase “2100 2nd St. SW., Stop 7126, Washington, DC 20593-7126”.

PART 150—COMPATIBILITY OF CARGOES

161. The authority citation for Part 150 continues to read as follows:

Authority: 46 U.S.C. 3306, 3703; Department of Homeland Security Delegation No. 0170.1. Section 150.105 issued under 44 U.S.C. 3507; Department of Homeland Security Delegation No. 0170.1.

Table I to Part 150—[Amended]

162. In Table I to Part 150—Alphabetical List of Cargoes, amend the row corresponding to Benzene by removing the number 2 from the footnote column.

Table II to Part 150—[Amended]

163. Amend Table II to Part 150—Grouping of Cargoes by removing the words “Fluorosilicic acid” from the list titled “0. Unassigned Cargoes.”

PART 151—BARGES CARRYING BULK LIQUID HAZARDOUS MATERIAL CARGOES

164. The authority citation for Part 151 continues to read as follows:

Authority: 33 U.S.C. 1903; 46 U.S.C. 3703; Department of Homeland Security Delegation No. 0170.1.

PART 151—[AMENDED]

165. In Part 151, remove the parenthetical phrase “(G-MSO)” wherever it appears, and add, in its place, the parenthetical phrase “(CG-522)”.

PART 153—SHIPS CARRYING BULK LIQUID, LIQUEFIED GAS, OR COMPRESSED GAS HAZARDOUS MATERIALS

166. The authority citation for Part 153 continues to read as follows:

Authority: 46 U.S.C. 3703; Department of Homeland Security Delegation No. 0170.1. Section 153.40 issued under 49 U.S.C. 5103. Sections 153.470 through 153.491, 153.1100 through 153.1132, and 153.1600 through 153.1608 also issued under 33 U.S.C. 1903 (b).

PART 153—[AMENDED]

167. In Part 153, remove the parenthetical phrase “(G-MSO)” wherever it appears, and add, in its place, the parenthetical phrase “(CG-522)”.

168. In the table below, for each section indicated in the left column, remove the text indicated in the middle column from wherever it appears in the section, and add, in its place, the text indicated in the right column:

Section | Remove | Add
153.4(a) | Second Street, SW., Washington, DC 20593-0001 | 2nd St., SW., Stop 7126, Washington, DC 20593-7126.
153.9(b) | JR10-0525, 2100 2nd Street, SW., Washington, DC 20593 | 2100 2nd St. SW., Stop 7102, Washington, DC 20593-7102.

PART 154—SAFETY STANDARDS FOR SELF-PROPELLED VESSELS CARRYING BULK LIQUEFIED GASES

169. The authority citation for Part 154 continues to read as follows:

Authority: 46 U.S.C. 3703, 9101; Department of Homeland Security Delegation No. 0170.1.

PART 154—[AMENDED]

170. In Part 154, remove the parenthetical phrase “(G-MSO)” wherever it appears, and add, in its place, the parenthetical phrase “(CG-522)”; and

171. In the table below, for each section indicated in the left column, remove the text indicated in the middle column from wherever it appears in the section, and add, in its place, the text indicated in the right column:

Section | Remove | Add
154.1(a) | Second Street, SW., Washington, DC 20593 | 2nd St., SW., Stop 7126, Washington, DC 20593-7126.
154.22(a) | JR10-0525, 2100 2nd Street, SW., Washington, DC 20593 | 2100 2nd St., SW., Stop 7102, Washington, DC 20593-7102.
154.34 | Second Street, SW., Washington, DC 20593-0001 | 2nd St., SW., Stop 7126, Washington, DC 20593-7126.

PART 159—APPROVAL OF EQUIPMENT AND MATERIALS

172. The authority citation for Part 159 continues to read as follows:

Authority: 46 U.S.C. 3306, 3703; 49 CFR 1.45, 1.46; Section 159.001-9 also issued under the authority of 44 U.S.C. 3507.

PART 159—[AMENDED]

173. In the table below, for each section indicated in the left column, remove the text indicated in the middle column from wherever it appears in the section, and add the text indicated in the right column:

Section | Remove | Add
159.001-2 | G-M | CG-5.
159.001-4(a) | G-MSE-4 | CG-5214.
159.001-4(a) | Second Street, SW., Washington, DC 20593-0001 | 2nd St., SW., Stop 7126, Washington, DC 20593-7126.
159.001-5 | G-PSE-4 | CG-5214.
159.001-5 | Second Street, SW., Washington, DC 20593-0001 | 2nd St., SW., Stop 7126, Washington, DC 20593-7126.

PART 160—LIFESAVING EQUIPMENT

174. The authority citation for Part 160 continues to read as follows:

Authority: 46 U.S.C. 2103, 3306, 3703 and 4302; E.O. 12234, 45 FR 58801, 3 CFR, 1980 Comp., p. 277; 49 CFR 1.46.

PART 160—[AMENDED]

175. In the table below, for each section indicated in the left column, remove the text indicated in the middle column from wherever it appears in the section, and add in its place the text indicated in the right column:

Section | Remove | Add
160.002-1(c) | G-MSE | CG-521.
160.002-1(c) | Washington, DC 20593-0001 | 2100 2nd St., SW., Stop 7126, Washington, DC 20593-7126.
160.010-1(a) | G-MSE-4 | CG-5214.
160.010-1(a) | Washington, DC 20593 | 2100 2nd St., SW., Stop 7126, Washington, DC 20593-7126.
160.010-2 | G-MSE-4 | CG-5214.
160.010-5(b) | G-MSE | CG-521.
160.010-5(c)(2) | G-MSE | CG-521.
160.010-5(c)(3) | G-MSE | CG-521.
160.010-7(a) | G-MSE | CG-521.
160.022-1(c) | G-MSE | CG-521.
160.022-1(c) | Washington, DC 20593-0001 | 2100 2nd St., SW., Stop 7126, Washington, DC 20593-7126.
160.033-1(b) | G-MSE | CG-521.
160.033-1(b) | Washington, DC 20593-0001 | 2100 2nd St., SW., Stop 7126, Washington, DC 20593-7126.
160.035-8(b)(1) | G-MSE | CG-521.
160.037-1(c) | G-MSE | CG-521.
160.037-1(c) | Washington, DC 20593-0001 | 2100 2nd St., SW., Stop 7126, Washington, DC 20593-7126.
160.047-1(c)(1) | G-MSE | CG-521.
160.047-1(c)(1) | Washington, DC 20593-0001 | 2100 2nd St., SW., Stop 7126, Washington, DC 20593-7126.
160.052-1(c)(1) | G-MSE | CG-521.
160.052-1(c)(1) | Washington, DC 20593-0001 | 2100 2nd St., SW., Stop 7126, Washington, DC 20593-7126.
160.054-1(b) | G-MSE | CG-521.
160.054-1(b) | Washington, DC 20593-0001 | 2100 2nd St., SW., Stop 7126, Washington, DC 20593-7126.
160.055-1(c) | G-MSE | CG-521.
160.055-1(c) | Washington, DC 20593-0001 | 2100 2nd St., SW., Stop 7126, Washington, DC 20593-7126.
160.057-1(c) | G-MSE | CG-521.
160.057-1(c) | Washington, DC 20593-0001 | 2100 2nd St., SW., Stop 7126, Washington, DC 20593-7126.
160.060-1(c)(1) | G-MSE | CG-521.
160.060-1(c)(1) | Washington, DC 20593-0001 | 2100 2nd St., SW., Stop 7126, Washington, DC 20593-7126.
160.072-09(a) | G-MSE | CG-521.
160.072-09(a) | Washington, DC 20591 | 2100 2nd St., SW., Stop 7126, Washington, DC 20593-7126.
160.073-5(b) | G-MSE | CG-521.
160.073-5(b) | Washington, DC 20593-0001 | 2100 2nd St., SW., Stop 7126, Washington, DC 20593-7126.
160.076-5 Commandant) | G-PSE-4 | CG-5214.
160.076-5 Commandant) | Second St., SW., Washington, DC 20593-0001 | 2nd St., SW., Stop 7126, Washington, DC 20593-7126.
160.076-11(a) | G-MSE-4 | CG-5214.
160.076-11(a) | Second Street, SW., Washington, DC 20593-0001 | 2nd St., SW., Stop 7126, Washington, DC 20593-7126.
160.077-2(a) | G-MSE-4 | CG-5214.
160.077-2(a) | Second Street, SW., Washington, DC 20593-0001 | 2nd St., SW., Stop 7126, Washington, DC 20593-7126.
160.077-5(a) | G-MSE-4 | CG-5214.
160.077-5(a) | Washington, DC 20593 | 2100 2nd St., SW., Stop 7126, Washington, DC 20593-7126.
160.151-3 Commandant) | G-MSE | CG-521.
160.151-3 Commandant | Second Street, SW., Washington, DC 20593-0001 | 2nd St., SW., Stop 7126, Washington, DC 20593-7126.
160.151-5(a) | G-MSE | CG-521.
160.151-5(a) | Washington, DC 20593-0001 | 2100 2nd St., SW., Stop 7126, Washington, DC 20593-7126.
160.171-3(a) | G-MSE-4 | CG-5214.
160.171-3(a) | Washington, DC 20593 | 2100 2nd St., SW., Stop 7126, Washington, DC 20593-7126.
160.174-3(a) | G-MSE-4 | CG-5214.
160.174-3(a) | Washington, DC 20593 | 2100 2nd St., SW., Stop 7126, Washington, DC 20593-7126.
160.176-3(a) | G-MSE-4 | CG-5214.
160.176-3(a) | Second St., SW., Washington, DC 20593-0001 | 2nd St., SW., Stop 7126, Washington, DC 20593-7126.
160.176-4(a) | G-MSE-4 | CG-5214.
160.176-4(a) | Second St., SW., Washington, DC 20593-0001 | 2nd St., SW., Stop 7126, Washington, DC 20593-7126.

PART 161—ELECTRICAL EQUIPMENT

176. The authority citation for Part 161 continues to read as follows:

Authority: 46 U.S.C. 3306, 3703, 4302; E.O. 12234, 45 FR 58801, 3 CFR, 1980 Comp., p. 277; Department of Homeland Security Delegation No. 0170.1.

PART 161—[AMENDED]

177. Amend Part 161 as follows:

a. Remove the phrase “Second Street SW., Washington, DC 20593-0001” from wherever it appears and add, in its place, the phrase “2nd St., SW., Stop 7126, Washington, DC 20593-7126”; and

b. Remove the parenthetical phrase “(G-MSE)” from wherever it appears and add, in its place, the parenthetical phrase “(CG-521)”.

§ 161.010-4 [Amended]

178. In 161.010-4(a), remove the phrase “JR10-0525, 2100 2nd Street, SW., Washington, DC 20593” and add in its place the phrase “2100 2nd St., SW., Stop 7102, Washington, DC 20593-7102”.

§§ 161.012-5, 161.013-11, and 161.013-17 [Amended]

179. In §§ 161.012-5(a), 161.013-11(c)(1), and 161.013-17, remove the phrase “Washington, DC 20593-0001” and add in its place the phrase “2100 2nd St., SW., Stop 7126, Washington, DC 20593-7126”.

PART 162—ENGINEERING EQUIPMENT

180. The authority citation for Part 162 continues to read as follows:

Authority: 33 U.S.C. 1321(j), 1903; 46 U.S.C. 3306, 3703, 4104, 4302; E.O. 12234, 45 FR 58801, 3 CFR, 1980 Comp., p. 277; E.O. 12777, 56 FR 54757, 3 CFR, 1991 Comp., p. 351; Department of Homeland Security Delegation No. 0170.1.

PART 162—[AMENDED]

181. In the table below, for each section indicated in the left column, remove the text indicated in the middle column from wherever it appears in the section, and add, in its place, the text indicated in the right column:

Section | Remove | Add
162.017-1(a) | Second Street, SW., Washington, DC 20593-0001 | 2nd St., SW., Stop 7126, Washington, DC 20593-7126.
162.017-6(a) | JR10-0525, 2100 2nd Street, SW., Washington, DC 20593 | 2100 2nd St., SW., Stop 7102, Washington, DC 20593-7102.
162.017-6(c) | G-MSE | CG-521.
162.018-8(a) | JR10-0525, 2100 2nd Street, SW., Washington, DC 20593 | 2100 2nd St., SW., Stop 7102, Washington, DC 20593-7102.
162.027-1(a) | G-MSE | CG-521.
162.027-1(a) | Second Street SW., Washington, DC 20593-0001 | 2nd St., SW., Stop 7126, Washington, DC 20593-7126.
162.027-2(b) | G-MSE | CG-521.
162.050-4(a) | Second Street, SW., Washington, DC 20593-0001 | 2nd St., SW., Stop 7126, Washington, DC 20593-7126.
162.050-7(a) | JR10-0525, 2100 2nd Street, SW., Washington, DC 20593 | 2100 2nd St., SW., Stop 7102, Washington, DC 20593-7102.
162.050-15(a), (e), (h) | Commanding Officer, U.S. Coast Guard Marine Safety Center, Engineering Division | Commandant (CG-5213), Systems Engineering Division.
162.050-15(a), (e), (h) | 2100 2nd St., SW., Washington, DC 20593-0001 | 2100 2nd St., SW., Stop 7126, Washington, DC 20593-7126.

PART 164—MATERIALS

182. The authority citation for Part 164 continues to read as follows:

Authority: 46 U.S.C. 3306, 3703, 4302; E.O. 12234, 45 FR 58801, 3 CFR, 1980 Comp., p. 277; 49 CFR 1.46.

PART 164—[AMENDED]

183. In the table below, for each section indicated in the left column, remove the text indicated in the middle column from wherever it appears in the section, and add, in its place, the text indicated in the right column:

Section | Remove | Add
164.007-1(c)(1) | G-MSE | CG-521.
164.007-1(c)(1) | Washington, DC 20593-0001 | 2100 2nd St., SW., Stop 7126, Washington, DC 20593-7126.
164.008-1(c)(1) | G-MSE | CG-521.
164.008-1(c)(1) | Washington, DC 20593-0001 | 2100 2nd St., SW., Stop 7126, Washington, DC 20593-7126.
164.009-9(d) | G-MSE | CG-521.
164.009-11(a) | G-MSE | CG-521.
164.012-1(b) | G-MSE | CG-521.
164.012-1(b) | Washington, DC 20593-0001 | 2100 2nd St., SW., Stop 7126, Washington, DC 20593-7126.
164.013-2(a) | G-MSE-4 | CG-5214.
164.013-2(a) | Washington, DC 20593-0001 | 2100 2nd St., SW., Stop 7126, Washington, DC 20593-7126.
164.018-7(a) | G-MSE | CG-521.
164.018-7(a) | Washington, DC 20593-0001 | 2100 2nd St., SW., Stop 7126, Washington, DC 20593-7126.
164.019-3 | G-MSE | CG-521.
164.019-3 | 2100 Second St., SW., Washington, DC 20593-0001 | 2100 2nd St., SW., Stop 7126, Washington, DC 20593-7126.
164.023-3(a) | G-MSE-4 | CG-5214.
164.023-3(a) | Washington, DC 20593-0001 | 2100 2nd St., SW., Stop 7126, Washington, DC 20593-7126.

PART 167—PUBLIC NAUTICAL SCHOOL SHIPS

184. The authority citation for Part 167 continues to read as follows:

Authority: 46 U.S.C. 3306, 3307, 6101, 8105; E.O. 12234, 45 FR 58801, 3 CFR, 1980 Comp., p. 277; Department of Homeland Security Delegation No. 0170.1.

§ 167.15-30 [Amended]

185. In § 167.15-30, remove the parenthetical phrase “(G-MOC)” from paragraph (e) and add, in its place, the parenthetical phrase “(CG-543)”.

PART 169—SAILING SCHOOL VESSELS

186. The authority citation for Part 169 continues to read as follows:

Authority: 33 U.S.C. 1321(j); 46 U.S.C. 3306, 6101; Pub. L. 103-206, 107 Stat. 2439; E.O. 11735, 38 FR 21243, 3 CFR, 1971-1975 Comp., p. 793; Department of Homeland Security Delegation No. 0170.1; § 169.117 also issued under the authority of 44 U.S.C. 3507.

PART 169—[AMENDED]

187. In the table below, for each section indicated in the left column, remove the text indicated in the middle column from wherever it appears in the section, and, in its place, add the text indicated in the right column:

Section | Remove | Add
169.115(b) | Washington, DC 20593 | (CG-521), 2100 2nd St., SW., Stop 7126, Washington, DC 20593-7126.
169.229(e) | G-MOC | CG-543.

PART 170—STABILITY REQUIREMENTS FOR ALL INSPECTED VESSELS

188. The authority citation for Part 170 continues to read as follows:

Authority: 43 U.S.C. 1333; 46 U.S.C. 2103, 3306, 3703; E.O. 12234, 45 FR 58801, 3 CFR, 1980 Comp., p. 277; Department of Homeland Security Delegation No. 0170.1.

PART 170—[AMENDED]

189. In the table below, for each section indicated in the left column, remove the text indicated in the middle column from wherever it appears in the section, and add, in its place, the text indicated in the right column:

Section | Remove | Add
170.010 | JR10-0525, 2100 2nd Street, SW., Washington, DC 20593 | 2100 2nd St., SW., Stop 7102, Washington, DC 20593-7102.
170.015(a) | Second Street, SW., Washington, D.C. 20593-0001 | 2nd St., SW., Stop 7126, Washington, DC 20593-7126.
170.100(b) | JR10-0525, 2100 2nd Street, SW., Washington, DC 20593 | 2100 2nd St., SW., Stop 7102, Washington, DC 20593-7102.

§ 170.160 [Amended]

190. In § 170.160 (c)(1), remove the words “Table 151.01-10(b)” and add, in their place, the words “Table 151.05”.

PART 172—SPECIAL RULES PERTAINING TO BULK CARGOES

191. The authority citation for Part 172 continues to read as follows:

Authority: 46 U.S.C. 3306, 3703, 5115; E.O. 12234, 45 FR 58801, 3 CFR, 1980 Comp., p. 277; Department of Homeland Security Delegation No. 0170.1.

§ 172.020 [Amended]

192. In § 172.020, remove the phrase “2100 Second Street, SW., Washington, DC 20593-0001” from paragraph (a) and add, in its place, the phrase “(CG-521), 2100 2nd St., SW., Stop 7126, Washington, DC 20593-7126 ”.

§ 172.080 [Amended]

193. In § 172.080, remove the words “Table 151.01-10(b)” and add, in their place, the words “Table 151.05”.

PART 174—SPECIAL RULES PERTAINING TO SPECIFIC VESSEL TYPES

194. The authority citation for Part 174 continues to read as follows:

Authority: 42 U.S.C. 9118, 9119, 9153; 43 U.S.C. 1333; 46 U.S.C. 3306, 3703; E.O. 12234, 45 FR 58801, 3 CFR, 1980 Comp., p. 277; Department of Homeland Security Delegation No. 0170.1.

§ 174.007 [Amended]

195. In § 174.007, remove the phrase “(G-MSE), 2100 Second Street, SW., Washington, DC 20593-0001” from paragraph (a) and add in its place the phrase “(CG-521), 2100 2nd St., SW., Stop 7126, Washington, DC 20593-7126”.

PART 175—GENERAL PROVISIONS

196. The authority citation for Part 175 continues to read as follows:

Authority: 46 U.S.C. 2103, 3205, 3306, 3307, 3703; Pub. L. 103-206, 107 Stat. 2439; 49 U.S.C. App. 1804; Department of Homeland Security Delegation No. 0170.1; 175.900 also issued under authority of 44 U.S.C. 3507.

§ 175.540 [Amended]

197. In § 175.540, remove the parenthetical phrase “(G-MOC)” from paragraph (d) and add, in its place, the parenthetical phrase “(CG-543)”.

§ 175.600 [Amended]

198. In § 175.600, remove the phrase “Second Street, SW., Washington, DC 20593-0001” from paragraph (a) and add, in its place, the phrase “2nd St., SW., Stop 7126, Washington, DC 20593-7126”.

PART 177—CONSTRUCTION AND ARRANGEMENT

199. The authority citation for Part 177 continues to read as follows:

Authority: 46 U.S.C. 2103, 3306; E.O. 12234, 45 FR 58801, 3 CFR, 1980 Comp., p. 277; Department of Homeland Security Delegation No. 0170.1.

PART 177—[AMENDED]

200. In Part 177, remove the phrase “JR10-0525, 2100 2nd Street, SW., Washington, DC 20593” from wherever it appears and add in its place the phrase “2100 2nd St., SW., Stop 7102, Washington, DC 20593-7102”.

PART 188—GENERAL PROVISIONS

201. The authority citation for Part 188 continues to read as follows:

Authority: 46 U.S.C. 2113, 3306; Pub. L 103-206, 107 Stat. 2439; 49 U.S.C. 5103, 5106; E.O. 12234, 45 FR 58801, 3 CFR, 1980 Comp., p. 277; Department of Homeland Security Delegation No. 0170.1.

§ 188.10-33 [Amended]

202. In § 188.10-33, remove the phrase “Washington, DC 20593-0001” and add in its place the phrase “2100 2nd St., SW., Stop 7000, Washington, DC 20593-7000”.

§ 188.35-5 [Amended]

203. Amend § 188.35-5(b) as follows:

a. Remove the parenthetical phrase “(G-MOC)” and add in its place the parenthetical phrase “(CG-543)”; and

b. Remove the phrase “Washington, DC 20593-0001” and add in its place the phrase “2100 2nd St. SW., Stop 7581, Washington, DC 20593-7581”.

PART 189—INSPECTION AND CERTIFICATION

204. The authority citation for Part 189 continues to read as follows:

Authority: 33 U.S.C. 1321(j); 46 U.S.C. 2113, 3306, 3307; E.O. 12234, 45 FR 58801, 3 CFR, 1980 Comp., p. 277; E.O. 12777, 56 FR 54757, 3 CFR, 1991 Comp., p. 351; Department of Homeland Security Delegation No. 0170.1.

PART 189—[AMENDED]

205. In the table below, for each section indicated in the left column, remove the text indicated in the middle column from wherever it appears in the section, and add, in its place, the text indicated in the right column:

Section | Remove | Add
189.15-5(b) | Second St., SW., Washington, DC 20593-0001 | 2nd St., SW., Stop 7126, Washington, DC 20593-7126.
189.40-3 | G-MOC | CG-543.
189.55-15(a)(2) | JR10-0525, 2100 2nd Street, SW., Washington, DC 20593 | 2100 2nd St., SW., Stop 7102, Washington, DC 20593-7102.

PART 193—FIRE PROTECTION EQUIPMENT

206. The authority citation for Part 193 continues to read as follows:

Authority: 46 U.S.C. 2213, 3102, 3306; E.O. 12234, 45 FR 58801, 3 CFR, 1980 Comp., p. 277; Department of Homeland Security Delegation No. 0170.1.

207. Revise § 193.01-3 to read as follows:

§ 193.01-3 Incorporation by reference.

(a) Certain material is incorporated by reference into this part with the approval of the Director of the Federal Register under 5 U.S.C. 552(a) and 1 CFR part 51. To enforce any edition other than that specified in this section, the Coast Guard must publish notice of change in the Federal Register and the material must be available to the public. All approved material is available for inspection at the National Archives and Records Administration (NARA). For information on the availability of this material at NARA, call 202-741-6030 or go to http://www.archives.gov/federal_register/code_of_federal_regulations/ibr_locations.html. Also, it is available for inspection at the Coast Guard, Office of Design and Engineering Standards (CG-521), 2100 2nd St., SW., Stop 7126, Washington, DC 20593-7126, 202-372-1405, and is available from the sources listed below.

(b) American Society for Testing and Materials (ASTM), 100 Barr Harbor Drive, West Conshohocken, PA 19428-2959, telephone 610-832-9585, http://www.astm.org.

(1) ASTM F 1121-87 (1993), Standard Specification for International Shore Connections for Marine Fire Applications, incorporation by reference approved for § 193.10-10.

(2) [Reserved]

(c) National Fire Protection Association (NFPA), 1 Batterymarch Park, Quincy, MA 02269-9101, telephone 800-344-3555, http://www.nfpa.org.

(1) NFPA 13-1996, Standard for the Installation of Sprinkler Systems, incorporation by reference approved for § 193.30-1.

(2) [Reserved]

PART 194—HANDLING, USE, AND CONTROL OF EXPLOSIVES AND OTHER HAZARDOUS MATERIALS

208. The authority citation for Part 194 continues to read as follows:

Authority: 46 U.S.C. 2103, 2113, 3306; 49 U.S.C. App. 1804; E.O. 12234, 45 FR 58801, 3 CFR, 1980 Comp., p. 277; Department of Homeland Security Delegation No. 0170.1.

§ 194.05-3 [Amended]

209. In § 194.05-3, remove the parenthetical phrase “(G-MSO)” from paragraph (b) and add in its place the parenthetical phrase “(CG-522)”.

PART 195—VESSEL CONTROL AND MISCELLANEOUS SYSTEMS AND EQUIPMENT

210. The authority citation for Part 195 continues to read as follows:

Authority: 46 U.S.C. 2113, 3306, 3307; 49 U.S.C. App. 1804; E.O. 12234, 45 FR 58801, 3 CFR, 1980 Comp., p. 277; Department of Homeland Security Delegation No. 0170.1.

§ 195.01-3 [Amended]

211. In § 195.01-3, remove the phrase “2100 Second Street, SW., Washington, DC 20593-0001” from paragraph (a) and add in its place the phrase “(CG-521), 2100 2nd St., SW., Stop 7126, Washington, DC 20593-7126”.

PART 197—GENERAL PROVISIONS

212. The authority citation for Part 197 continues to read as follows:

Authority: 33 U.S.C. 1509; 43 U.S.C. 1333; 46 U.S.C. 3306, 3703, 6101; Department of Homeland Security Delegation No. 0170.1.

§ 197.510 [Amended]

213. In § 197.510, remove the phrase “(G-MSO), 2100 Second Street, SW., Washington, DC 20593-0001” from paragraph (a) and add in its place the phrase “(CG-522), 2100 2nd St., SW., Stop 7126, Washington, DC 20593-7126”.

PART 199—LIFESAVING SYSTEMS FOR CERTAIN INSPECTED VESSELS

214. The authority citation for Part 199 continues to read as follows:

Authority: 46 U.S.C. 3306, 3703; Pub. L. 103-206, 107 Stat. 2439; Department of Homeland Security Delegation No. 0170.1.

PART 199—[AMENDED]

215. In the table below, for each section indicated in the left column, remove the text indicated in the middle column from wherever it appears in the section, and add the text indicated in the right column:

Section | Remove | Add
199.05(a) | G-MSE-4 | CG-5214.
199.05(a) | Second Street, SW., Washington, DC 20593-0001 | 2nd St., SW., Stop 7126, Washington, DC 20593-7126.
199.09 | G-MSE | CG-521.
199.20 | G-MOC | CG-543.
199.30 (Major character) | G-MOC | CG-543.
199.40(c) | G-MSE | CG-521.
199.40(d) | G-MSC | Marine Safety Center.

PART 401—GREAT LAKES PILOTAGE REGULATIONS

216. The authority citation for Part 401 continues to read as follows:

Authority: 46 U.S.C. 2104(a), 6101, 7701, 8105, 9303, 9304; Department of Homeland Security Delegation No. 0170.1; 46 CFR 401.105 also issued under the authority of 44 U.S.C. 3507.

§ 401.110 [Amended]

217. Amend § 401.110 as follows:

a. Remove the phrase “Washington, DC 20593-0001” from paragraph (a)(2) and add in its place the phrase “2100 2nd St., SW., Stop 7000, Washington, DC 20593-7000”; and

b. Remove the phrase “Second Street, SW., Washington, DC 20593-0001,” from paragraph (a)(9) and add in its place the phrase “2nd St., SW., Stop 7581, Washington, DC 20593-7581,”.

Title 49—Transportation

PART 450—GENERAL

218. The authority citation for Part 450 continues to read as follows:

Authority: Sec. 4, 91 Stat. 1475 (46 U.S.C. 1503); Department of Homeland Security Delegation No. 0170.1.

PART 450—[AMENDED]

219. Remove the parenthetical phrase “(G-MSO)” from wherever it appears and add in its place the phrase “(CG-522)”.

§ 450.11 [Amended]

220. In § 450.11, remove the words “Washington, DC 20593” from paragraph (a) and add, in their place, the words “2100 2nd St., SW., Stop 7126, Washington, DC 20593-7126”.

PART 451—TESTING AND APPROVAL OF CONTAINERS

221. The authority citation for Part 451 continues to read as follows:

Authority: Sec. 4, 91 Stat 1475 (46 U.S.C. 1503); Department of Homeland Security Delegation No. 0170.1.

PART 451—[AMENDED]

222. In Part 451, remove the parenthetical phrase “(G-MSO)” from wherever it appears and add, in its place, the phrase “(CG-522)”.

§ 451.1 [Amended]

223. In § 451.1, remove the phrase “Washington, DC 20593” from paragraph (a) and add in its place the phrase “2100 2nd St. SW., Stop 7126, Washington, DC 20593-7126”.

PART 452—EXAMINATION OF CONTAINERS

224. The authority citation for Part 452 continues to read as follows:

Authority: Sec. 4, 91 Stat 1475 (46 U.S.C. 1503); Department of Homeland Security Delegation No. 0170.1.

§ 452.7 [Amended]

225. Amend § 452.7(a) as follows:

a. Remove the parenthetical phrase “(G-MSO)” and add in its place the phrase “(CG-522)”; and

b. Remove the words “Second Street, SW., Washington, DC 20593” and add in their place the words “2nd St. SW., Stop 7126, Washington, DC 20593-7126”.

PART 453—CONTROL AND ENFORCEMENT

226. The authority citation for Part 453 continues to read as follows:

Authority: Sec. 4, 91 Stat 1475 (46 U.S.C. 1503); Department of Homeland Security Delegation No. 0170.1.

PART 453—[AMENDED]

227. Remove the parenthetical phrase “(G-MSO)” from wherever it appears and add, in its place, the phrase “(CG-522)”.

Dated: September 1, 2009.
Stefan G. Venckus,
Chief, Office of Regulations and Administrative Law, United States Coast Guard.

[FR Doc. E9-21588 Filed 9-24-09; 8:45 am]

BILLING CODE 4910-15-P